DEPARTMENT OF COMMERCE

National Oceanic and Atmospheric Administration

50 CFR Part 679

[Docket No.: 101126521-0521-02]

RIN 0648-XZ90

Fisheries of the Exclusive Economic Zone Off Alaska; Bering Sea and Aleutian Islands; Proposed 2011 and 2012 Harvest Specifications for Groundfish

AGENCY: National Marine Fisheries Service (NMFS), National Oceanic and Atmospheric Administration (NOAA), Commerce.

ACTION: Proposed rule; request for comments.

SUMMARY: NMFS proposes 2011 and 2012 harvest specifications and prohibited species catch (PSC) allowances for the groundfish fisheries of the Bering Sea and Aleutian Islands (BSAI) management area. This action is necessary to establish harvest limits for groundfish during the 2011 and 2012 fishing years, and to accomplish the goals and objectives of the Fishery Management Plan for Groundfish of the Bering Sea and Aleutian Islands Management Area. The intended effect of this action is to conserve and manage the groundfish resources in the BSAI in accordance with the Magnuson-Stevens Fishery Conservation and Management Act.

DATES: Comments must be received by January 7, 2011.

ADDRESSES: Send comment to Sue Salveson, Assistant Regional Administrator, Sustainable Fisheries Division, Alaska Region, NMFS, Attn: Ellen Sebastian. You may submit comments, identified by RIN 0648-XZ90, by any one of the following methods:

• Electronic Submissions: Submit all electronic public comments via the Federal eRulemaking Portal at http://www.regulations.gov.

• Mail: P.O. Box 21668, Juneau, AK 99802.

• Fax: (907) 586-7557.

• Hand delivery to the Federal Building: 709 West 9th Street, Room 420A, Juneau, AK.

All comments received are a part of the public record. No comments will be posted to http://www.regulations.gov for public viewing until after the comment period has closed. Comments will generally be posted without change. All Personal Identifying Information (for example, name, address) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

Electronic copies of the Alaska Groundfish Harvest Specifications Final Environmental Impact Statement (Final EIS), the Initial Regulatory Flexibility Analysis (IRFA), and the Supplemental IRFA prepared for this action may be obtained from http://www.regulations.gov or from the Alaska Region Web site at http://alaskafisheries.noaa.gov. Copies of the final 2009 Stock Assessment and Fishery Evaluation (SAFE) report for the groundfish resources of the Bering Sea and Aleutian Islands, dated November 2009, are available from the North Pacific Fishery Management Council (Council) at 605 West 4th Avenue, Suite 306, Anchorage, AK 99510-2252, phone 907-271-2809, or from the Council's Web site at http://alaskafisheries.noaa.gov/npfmc. The 2010 SAFE report for the BSAI will be available from the same sources in mid-November 2010.

FOR FURTHER INFORMATION CONTACT: Steve Whitney, 907-586-7269.

SUPPLEMENTARY INFORMATION: Federal regulations at 50 CFR part 679 implement the Fishery Management Plan for Groundfish of the Bering Sea and Aleutian Islands Management Area (FMP) and govern the groundfish fisheries in the BSAI. The Council prepared the FMP and NMFS approved it under the Magnuson-Stevens Fishery Conservation and Management Act (Magnuson-Stevens Act). General regulations governing U.S. fisheries also appear at 50 CFR part 600.

The FMP and its implementing regulations require NMFS, after consultation with the Council, to specify annually the total allowable catch (TAC) for each target species category, the sum of which must be within the optimum yield range of 1.4 million to 2.0 million metric tons (mt) (see § 679.20(a)(1)(i)). Section 679.20(c)(1) further requires NMFS to publish proposed harvest specifications in the Federal Register and solicit public comments on proposed annual TACs and apportionments thereof, prohibited species catch (PSC) allowances, prohibited species quota (PSQ) reserves established by § 679.21, seasonal allowances of pollock, Pacific cod, and Atka mackerel TAC, American Fisheries Act allocations, Amendment 80 allocations, and Community Development Quota (CDQ) reserve amounts established by § 679.20(b)(1)(ii). The proposed harvest specifications set forth in Tables 1 through 12 of this action satisfy these requirements.

Under § 679.20(c)(3), NMFS will publish the final harvest specifications for 2011 and 2012 after (1) considering comments received within the comment period (see DATES), (2) consulting with the Council at its December 2010 meeting, and (3) considering new information presented in the final 2010 SAFE reports prepared for the 2011 and 2012 groundfish fisheries.

Other Actions Potentially Affecting the 2011 and 2012 Harvest Specifications

NMFS published a final rule to implement Amendments 95 and 96 to the FMP on October 6, 2010 (75 FR 61639), effective November 5, 2010. Amendments 95 and 96 move sculpins, skates, sharks, and octopuses from the “other species” category to the “target species” category in the BSAI and eliminate the “other species” category in the FMP. Amendment 96 revises the FMP to meet the National Standard 1 guidelines for annual catch limits and accountability measures, and requires that overfishing levels (OFLs), acceptable biological catches (ABCs), and TACs be established for sculpins, skates, sharks, and octopuses as part of the annual groundfish harvest specifications process. Based on the 2009 SAFE report NMFS proposes ABCs, TACs, and OFLs for sculpins, skates, sharks, and octopuses listed in Table 1. At the November 2010 BSAI Groundfish Plan Team (Plan Team) meeting, the Plan Team recommended that the SSC and Council adopt OFLs for octopuses and sharks based upon the maximum catch from 1997 through 2007. This alternative method of calculating OFLs varies from the default method specified in the BSAI FMP for Tier 6 species (section 3.2.4). If approved, the alternative method of calculating OFL may result in higher harvest specification limits for sharks and octopuses.

Amendment 96 to the FMP is necessary to comply with Magnuson-Stevens Act requirements associated with annual catch limits and accountability measures, and revises how total annual groundfish mortality is estimated and accounted for in the annual SAFE reports. These revisions affect the OFLs and ABCs for certain groundfish species. Specifically, NMFS will attempt to identify additional sources of mortality to groundfish stocks not currently reported or considered by the groundfish stock assessments in recommending OFLs, ABCs, and TACs for certain groundfish species. These additional sources of mortality result from recreational fishing, subsistence fishing, trawl and hook-and-line surveys, exempted fishing permits, research, commercial halibut fisheries, crab bait, sablefish catch predation by whales or other sources of mortality not yet identified. Many of the sources of this mortality have been identified, some of which are currently unreported.

NMFS intends to develop a single database that stock assessment authors can access through a single source such as the Alaska Fisheries Information Network. The development of this database will require the cooperation of several agencies, including NMFS, the Alaska Department of Fish and Game, and the International Pacific Halibut Commission (IPHC). At its October 2010 meeting, the Council's groundfish Plan Teams recommended the formation of a total catch accounting working group to assist NMFS in developing a methodology to estimate total catch of groundfish. While much of the information is currently available and will be incorporated into the final 2010 SAFE reports, the development of an adequate methodology is ongoing and not fully ready for use in the final SAFE reports. NMFS intends to have the information available for the assessment cycle in the fall of 2011.

At the October 2010 meeting, the Council and the Scientific and Statistical Committee (SSC) recommended separating Kamchatka flounder from the arrowtooth flounder complex starting in the year 2011. As a result, arrowtooth flounder and Kamchatka flounder will have separate OFLs, ABCs, and TACs for 2011 and 2012. Section 305(i)(1)(1)(B)(ii)(II) of the MSA addresses allocations to the CDQ Program. It requires “the allocation under the program in any directed fishery of the Bering Sea and Aleutian Islands (other than a fishery for halibut, sablefish, pollock and crab) established after the date of enactment of this subclause shall be a total allocation (directed and nontarget combined) of 10.7 percent.” This requirement was added to the MSA through the Coast Guard and Maritime Transportation Act of 2006 (Public Law 109-241), which was signed by the President on July 11, 2006. Therefore, the creation of a new TAC category for Kamchatka flounder in 2011 would require NMFS to determine if an allocation of 10.7 percent of the Kamchatka flounder TAC should be made to the CDQ Program. NMFS requests public comment on the following proposal to allocate 10.7 percent of the Kamchatka flounder TAC to the CDQ Program.

In the final 2007 and 2008 harvest specifications for groundfish of the BSAI (72 FR 9451, March 2, 2007), NMFS explained the determination that the term “directed fishery” for purposes of section 305(i)(1) of the MSA means a fishery for which sufficient TAC exists to open a directed fishery for that species or species group, and the species or species group is economically valuable enough for the CDQ groups to target them. For Kamchatka flounder sufficient TAC exists to open a directed fishery for this species, the species is economically valuable, directed fishing for Kamchatka flounder has been conducted in the past, vessel harvesting groundfish on behalf of the CDQ groups have retained catch reported under the combined species code for arrowtooth flounder and Kamchatka flounder, observers onboard these vessels have reported the retention of Kamchatka flounder, and NMFS expects that vessel operators in the non-CDQ fisheries will conduct directed fishing for Kamchatka flounder in the future. NMFS does not have sufficient information at this time to determine if Kamchatka flounder is economically valuable enough to the CDQ groups for them to target on them or conduct directed fisheries for them in the future. Therefore, based on the information available at this time, NMFS initially proposes that Kamchatka flounder may meet the definition for a “directed fishery” under section 305(i)(1) and proposes to allocate 10.7 percent of the Kamchatka flounder TAC to the CDQ Program.

NMFS requests comment about the economic value of Kamchatka flounder and whether the CDQ groups intend to conduct directed fishing for Kamchatka flounder in the future. For the final 2011 and 2012 groundfish harvest specifications for the BSAI NMFS will consider additional information provided about the proposed allocation of Kamchatka flounder to the CDQ Program. Specifically, if NMFS receives information that none of the CDQ groups intend to conduct directed fishing for Kamchatka flounder, then NMFS would not allocate 10.7 percent of the Kamchatka flounder TAC to the CDQ Program. However, if any one of the six CDQ groups intends to conduct directed fishing for Kamchatka flounder, or if NMFS does not receive information that demonstrates unanimity among the CDQ groups about the economic value of Kamchatka flounder to the CDQ groups, NMFS would allocate 10.7 percent of the TAC to the CDQ Program.

If an allocation of Kamchatka flounder is made to the CDQ Program in the final 2011 and 2012 groundfish harvest specifications for the BSAI, this CDQ reserve will be allocated among the CDQ groups using the same percentage allocations currently used to allocate the arrowtooth flounder complex among the CDQ groups. These percentage allocations are shown in Table 1 of a notice published in the Federal Register on August 31, 2006 (71 FR 51804). The current percentage allocations of arrowtooth flounder among the CDQ groups would be used to allocate Kamchatka flounder among the CDQ groups because the new TAC category is being created by splitting Kamchatka flounder from the arrowtooth flounder complex.

The SSC and the Council also recommended splitting the BSAI rougheye/blackspotted rockfish complex ABC and TAC between the Bering Sea subarea and the Aleutian Island subarea. At the November 2010 meeting, the Plan Team recommended splitting the BSAI rougheye/blackspotted rockfish complex ABC and TAC into two areas, with the first area being the Central Aleutian Islands and Western Aleutian Islands subareas and the second area being the Eastern Aleutian Island and Bering Sea subareas. The Council could choose either or none of these proposals at its December 2010 meeting.

NMFS published a final rule to implement Amendment 91 to the FMP on August 30, 2010 (75 FR 53026), effective September 29, 2010. Amendment 91 is a change in management of Chinook salmon bycatch in the Bering Sea pollock fishery that combines a limit on the amount of Chinook salmon that may be caught incidentally with incentive plan agreements and performance standards. The final rule also removes from regulations the 29,000 Chinook salmon PSC limit in the Bering Sea, the Chinook Salmon Savings Areas in the Bering Sea, exemption from Chinook Salmon Savings Area closures for participants in the voluntary rolling hotspot system (VRHS) intercooperative agreement, and Chinook salmon as a component of the VRHS intercooperative agreement. The final rule does not change any regulations affecting the management of Chinook salmon in the Aleutian Islands or non-Chinook salmon in the BSAI. The Council is currently considering a separate action to modify the non-Chinook salmon management measures to minimize non-Chinook salmon bycatch.

In 2010, NMFS completed a Section 7 formal consultation on the effects of the authorization of the Alaska groundfish fisheries on Endangered Species Act listed species under NMFS jurisdiction. The consultation resulted in a biological opinion that determined that the effects of the Alaska groundfish fisheries were likely to result in the jeopardy of extinction and adverse modification of designated critical habitat for the western distinct population segment of Steller sea lions. The biological opinion contained a reasonable and prudent alternative that requires changes to the BSAI Atka mackerel and Aleutian Islands subarea Pacific cod fisheries to prevent the likelihood of jeopardy of extinction or adverse modification of critical habitat for Steller sea lions. A separate rulemaking for implementation of the reasonable and prudent alternative is scheduled to be effective by January 1, 2011. Changes to the harvest specifications for Atka mackerel and Pacific cod that would be required by the rule implementing the reasonable and prudent alternative are described in the section for each of these target species and will revise these proposed harvest specifications for Atka mackerel and Pacific cod listed in Tables 1, 3, 4, 9, and 11.

Proposed ABC and TAC Harvest Specifications

The amounts proposed for the 2011 and 2012 harvest specifications are based on the 2009 SAFE report and are subject to change in the final harvest specifications to be published by NMFS following the Council's December 2010 meeting. At that meeting the Council will consider information contained in the final 2010 SAFE report, recommendations from the Plan Team meeting, the December 2010 Scientific and Statistical Committee (SSC), the Advisory Panel (AP) meetings, and public testimony in making its recommendations for the final 2011 and 2012 harvest specifications.

At the October 2010 Council meeting, the Council, the Scientific and Statistical Committee (SSC), and the Advisory Panel (AP) reviewed most recent biological and harvest information about the condition of groundfish stocks in the BSAI. This information was initially compiled by the Plan Team and presented in the final 2009 SAFE report for the BSAI groundfish fisheries, dated November 2009 (see ADDRESSES). In November 2010, the Plan Team updated the 2009 SAFE report to include new information collected during 2010, such as revised stock assessments and catch data. The Plan Team compiled this information and produced the 2010 SAFE report. The Council will review the 2010 SAFE report during the December 2010 Council meeting. At that meeting, the Council will consider information contained in the 2010 SAFE report, recommendations made by the Plan Team during its November 2010 meeting, the December 2010 SSC and AP meetings, public testimony, and relevant written public comments in making its recommendations for the final 2011 and 2012 harvest specifications.

In previous years the largest changes from the proposed to the final harvest specifications have been based on the most recent NMFS surveys, which provide updated estimates of stock biomass and spatial distribution, and changes to the models used in the stock assessments. Any new models were presented at the September Plan Team meeting and reviewed by the SSC at the October 2010 Council meeting. In November 2010, the Plan Team will consider updated stock assessments for pollock, Pacific cod, yellowfin sole, rock sole, Kamchatka flounder, sharks, squid, sculpins, and octopus to be included in the final 2010 SAFE report. For the other groundfish stocks, the assessments will be updated to include the most recent information, such as 2010 catch. The final harvest specification amounts for these stocks are not expected to vary greatly from the proposed specification amounts published here.

If the final 2010 SAFE report indicates that the stock biomass trend is increasing for a species, then the final 2011 and 2012 harvest specifications may reflect that increase from the proposed harvest specifications. This currently is applicable to the following species: pollock, Pacific cod, sablefish, Atka mackerel, yellowfin sole, flathead sole, Pacific ocean perch, northern rockfish, shortraker rockfish, other rockfish, octopus, sculpins, and skates. Conversely, if the final 2010 SAFE report indicates that the stock biomass trend is decreasing for a species, then the final 2011 and 2012 harvest specifications may reflect a decrease from the proposed harvest specifications. This is applicable to the following species: arrowtooth flounder, Greenland turbot, rock sole, Alaska plaice, other flatfish, and rougheye rockfish. The biomass trends for sharks and squid are relatively level and stable. For Alaska plaice, natural mortality has been re-estimated and this will likely result in a far smaller OFL and ABC.

The proposed ABCs and TACs are based on the best available biological and socioeconomic data, including projected biomass trends, information on assumed distribution of stock biomass, and revised methods used to calculate stock biomass. The FMP specifies the formulas, or tiers, to be used to compute OFLs and ABCs. The formulas applicable to a particular stock or stock complex are determined by the level of reliable information available to fisheries scientists. This information is categorized into a successive series of six tiers to define OFL and ABC amounts, with tier one representing the highest level of information quality available and tier six representing the lowest level of information quality available.

In October 2010, the SSC adopted the proposed 2011 and 2012 OFLs and ABCs recommended by the Plan Team for all groundfish species. The Council adopted the SSC's OFL and ABC recommendations and the AP's TAC recommendations. These amounts are unchanged from the final 2011 harvest specifications published in the Federal Register on March 12, 2010 (75 FR 11778). The exceptions to this are the establishment of individual ABC and TAC amounts for sculpins, sharks, squid, and octopuses per the Secretary's approval of Amendments 95 and 96 to the FMP and separating Kamchatka flounder from the arrowtooth flounder complex, as previously described. For 2011 and 2012, the Council recommended and NMFS proposes the OFLs, ABCs, and TACs listed in Table 1. The proposed ABCs reflect harvest amounts that are less than the specified overfishing amounts. The sum of the proposed 2011 and 2012 ABCs for all assessed groundfish is 2,467,266 mt, which is higher than the final 2010 ABC total of 2,121,880 mt (75 FR 11778, March 12, 2010).

Specification and Apportionment of TAC Amounts

The Council recommended proposed TACs for 2011 and 2012 that are equal to proposed ABCs for sablefish, Atka mackerel, yellowfin sole, Greenland turbot, Kamchatka flounder, “other flatfish,” Pacific ocean perch, northern rockfish, shortraker rockfish, rougheye rockfish, other rockfish, squid, sharks, skates, sculpins, and octopus. The Council recommended proposed TACs for 2011 and 2012 that are less than the proposed ABCs for pollock, Pacific cod, rock sole, arrowtooth flounder, flathead sole, and Alaska plaice.

The proposed Bering Sea pollock TAC was reduced from the ABC to accommodate fishing under a potential Exempted Fisheries Permit (EFP). The Council likely will reconsider this reduction at its December 2010 meeting, given uncertainty of the deployment of the EFP and the fact that any pollock mortality that occurs under an approved EFP would be considered in the subsequent year's stock assessment as contemplated under Amendment 96 to the FMP.

Section 679.20(a)(5)(iii)(B)(1) requires the Aleutian Islands pollock TAC to be set at 19,000 mt when the Aleutian Islands pollock ABC equals or exceeds 19,000 mt. The Bogoslof pollock TAC is set to accommodate incidental catch amounts. The Pacific cod TAC is set to accommodate the State of Alaska's (State) Aleutian Islands Pacific cod guideline harvest level fishery so that the ABC is not exceeded. The Alaska plaice, arrowtooth flounder, flathead sole, rock sole, and sculpin TACs are set so that the sum of the overall TAC does not exceed the BSAI optimum yield.

The proposed groundfish OFLs, ABCs and TACs are subject to change pending the completion of the 2010 SAFE report and the Council's recommendations for final 2011 and 2012 harvest specifications during its December 2010 meeting. These amounts are consistent with the biological condition of groundfish stocks as described in the 2009 SAFE report, and adjusted for other biological and socioeconomic considerations. Table 1 lists the proposed 2011 and 2012 OFL, ABC, TAC, initial TAC (ITAC), and CDQ amounts for groundfish for the BSAI. The proposed apportionment of TAC amounts among fisheries and seasons is discussed below.

Table 1—Proposed 2011 and 2012 Overfishing Level (OFL), Acceptable Biological Catch (ABC), Total Allowable Catch (TAC), Initial TAC (ITAC), and CDQ Reserve Allocation of Groundfish in the BSAI¹
[Amounts are in metric tons]
Species | Area | Proposed 2011 and 2012: OFL | Proposed 2011 and 2012: ABC | Proposed 2011 and 2012: TAC | Proposed 2011 and 2012: ITAC ² | Proposed 2011 and 2012: CDQ 3 4 5
Pollock | 2011 BS | 1,220,000 | 1,110,000 | 1,107,000 | 996,300 | 110,700
| 2012 BS | 1,220,000 | 1,110,000 | 1,105,000 | 994,500 | 110,500
| AI | 39,100 | 32,200 | 19,000 | 17,100 | 1,900
| Bogoslof | 22,000 | 156 | 75 | 10 |
Pacific cod ⁴ | BSAI | 251,000 | 214,000 | 207,580 | 185,369 | 22,211
Sablefish ⁵ | BS | 2,970 | 2,500 | 2,500 | 1,063 | 94
| AI | 2,200 | 1,860 | 1,860 | 434 | 38
Atka mackerel | BSAI | 76,200 | 65,000 | 65,000 | 58,045 | 6,955
| EAI/BS |  | 20,900 | 20,900 | 18,664 | 2,236
| CAI |  | 26,000 | 26,000 | 23,218 | 2,782
| WAI |  | 18,100 | 18,100 | 16,163 | 1,937
Yellowfin sole | BSAI | 227,000 | 213,000 | 213,000 | 190,209 | 22,791
Rock sole ⁶ | BSAI | 245,000 | 242,000 | 90,000 | 80,370 | 9,630
Greenland turbot | BSAI | 6,860 | 5,370 | 5,370 | 4,565 | n/a
| BS |  | 3,700 | 3,700 | 3,145 | 396
| AI |  | 1,670 | 1,670 | 1,420 |
Arrowtooth flounder | BSAI | 167,400 | 139,300 | 60,000 | 51,000 | 6,420
Kamchatka flounder | BSAI | 23,600 | 17,700 | 17,700 | 15,045 | 1,894
Flathead sole ⁷ | BSAI | 81,800 | 68,100 | 60,000 | 53,580 | 6,420
Other flatfish ⁸ | BSAI | 23,000 | 17,300 | 17,300 | 14,705 |
Alaska plaice | BSAI | 314,000 | 248,000 | 40,000 | 34,000 |
Pacific ocean perch | BSAI | 22,200 | 18,680 | 18,680 | 16,518 | n/a
| BS |  | 3,790 | 3,790 | 3,222 |
| EAI |  | 4,180 | 4,180 | 3,733 | 447
| CAI |  | 4,230 | 4,230 | 3,777 | 453
| WAI |  | 6,480 | 6,480 | 5,787 | 693
Northern rockfish | BSAI | 8,700 | 7,290 | 7,290 | 6,197 |
Shortraker rockfish | BSAI | 516 | 387 | 387 | 329 |
Rougheye rockfish ⁹ | BSAI | 650 | 531 | 531 | 451 |
| BS |  | 42 | 42 | 36 |
| AI |  | 489 | 489 | 416 |
Other rockfish ¹⁰ | BSAI | 1,380 | 1,040 | 1,040 | 884 |
| BS |  | 485 | 485 | 412 |
| AI |  | 555 | 555 | 472 |
Squid | BSAI | 2,620 | 1,970 | 1,970 | 1,675 |
Sharks | BSAI | 598 | 449 | 449 | 382 |
Skates | BSAI | 35,900 | 30,000 | 30,000 | 25,500 |
Sculpins | BSAI | 51,300 | 30,200 | 30,035 | 25,530 |
Octopus | BSAI | 311 | 233 | 233 | 198 |
2011 Total |  | 2,826,305 | 2,467,266 | 1,997,000 | 1,779,457 | 189,148
2012 Total |  | 2,826,305 | 2,467,266 | 1,995,000 | 1,779,457 | 189,148
¹ These amounts apply to the entire BSAI management area unless otherwise specified. With the exception of pollock, and for the purpose of these harvest specifications, the Bering Sea (BS) subarea includes the Bogoslof District.
² Except for pollock, the portion of the sablefish TAC allocated to hook-and-line and pot gear, and Amendment 80 species, 15 percent of each TAC is put into a reserve. The ITAC for these species is the remainder of the TAC after the subtraction of these reserves.
³ Under § 679.20(a)(5)(i)(A)(1), the annual Bering Sea subarea pollock TAC, after subtracting first for the CDQ directed fishing allowance (10 percent) and second for the incidental catch allowance (4 percent), is further allocated by sector for a directed pollock fishery as follows: inshore—50 percent; catcher/processor—40 percent; and motherships—10 percent. Under § 679.20(a)(5)(iii)(B)(2)(i) and (ii), the annual Aleutian Islands subarea pollock TAC, after subtracting first for the CDQ directed fishing allowance (10 percent) and second for the incidental catch allowance (1,600 mt), is allocated to the Aleut Corporation for a directed pollock fishery.
⁴ The Pacific cod TAC is reduced by three percent from the ABC to account for the State guideline harvest level in State waters of the Aleutian Islands subarea.
⁵ For the Amendment 80 species (Atka mackerel, Aleutian Islands Pacific ocean perch, yellowfin sole, rock sole, flathead sole, and Pacific cod), 10.7 percent of the TAC is reserved for use by CDQ participants (see §§ 679.20(b)(1)(ii)(C) and 679.31). Twenty percent of the sablefish TAC allocated to hook-and-line gear or pot gear, 7.5 percent of the sablefish TAC allocated to trawl gear, and 10.7 percent of the TACs for Bering Sea Greenland turbot and arrowtooth flounder are reserved for use by CDQ participants (see § 679.20(b)(1)(ii)(B) and (D)). Aleutian Islands Greenland turbot, “other flatfish”, Alaska plaice, Bering Sea Pacific ocean perch, northern rockfish, shortraker rockfish, rougheye rockfish, “other rockfish”, squids, octopuses, skates, sculpins, and sharks are not allocated to the CDQ program.
⁶ “Rock sole” includes Lepidopsetta polyxystra (Northern rock sole) and Lepidopsetta bilineata (Southern rock sole).
⁷ “Flathead sole” includes Hippoglossoides elassodon (flathead sole) and Hippoglossoides robustus (Bering flounder).
⁸ “Other flatfish” includes all flatfish species, except for halibut (a prohibited species), arrowtooth flounder, flathead sole, Greenland turbot, Kamchatka flounder, rock sole, and yellowfin sole.
⁹ “Rougheye rockfish” includes Sebastes aleutianus (rougheye) and Sebastes melanostictus (blackspotted).
¹⁰ “Other rockfish” includes all Sebastes and Sebastolobus species except for Pacific ocean perch, northern, shortraker, and rougheye rockfish.

Groundfish Reserves and the Incidental Catch Allowance (ICA) for Pollock, Atka Mackerel, Flathead Sole, Rock Sole, Yellowfin Sole, and Aleutian Islands Pacific Ocean Perch

Section 679.20(b)(1)(i) requires the placement of 15 percent of the TAC for each target species category, except for pollock, the hook-and-line and pot gear allocation of sablefish, and the Amendment 80 species, in a non-specified reserve. Section 679.20(b)(1)(ii)(B) requires that 20 percent of the hook-and-line and pot gear allocation of sablefish be allocated to the fixed gear sablefish CDQ reserve. Section 679.20(b)(1)(ii)(D) requires that 7.5 percent of the trawl gear allocations of sablefish—and 10.7 percent of Bering Sea Greenland turbot, Kamchatka flounder, and arrowtooth flounder—be allocated to the respective CDQ reserves. Section 679.20(b)(1)(ii)(C) requires that 10.7 percent of the TACs for Atka mackerel, Aleutian Islands Pacific ocean perch, yellowfin sole, rock sole, flathead sole, and Pacific cod be allocated to the CDQ reserves. Sections 679.20(a)(5)(i)(A) and 679.31(a) also require the allocation of 10 percent of the BSAI pollock TACs to the pollock CDQ directed fishing allowance (DFA). The entire Bogoslof District pollock TAC is allocated as an ICA (see § 679.20(a)(5)(ii)). With the exception of the hook-and-line and pot gear sablefish CDQ reserve, the regulations do not further apportion the CDQ reserves by gear. Sections 679.30 and 679.31 set forth regulations governing the management of the CDQ reserves.

Pursuant to § 679.20(a)(5)(i)(A)(1), NMFS proposes a pollock ICA of 4 percent of the Bering Sea subarea pollock TAC after subtraction of the 10 percent CDQ reserve. This allowance is based on NMFS' examination of the pollock incidental catch, including the incidental catch by CDQ vessels, in target fisheries other than pollock from 1999 through 2010. During this 12-year period, the pollock incidental catch ranged from a low of 2.4 percent in 2006 to a high of 5 percent in 1999, with a 12-year average of 3.3 percent. Pursuant to § 679.20(a)(5)(iii)(B)(2)(i) and (ii), NMFS proposes a pollock ICA of 1,600 mt for the AI subarea after subtraction of the 10 percent CDQ DFA. This allowance is based on NMFS' examination of the pollock incidental catch, including the incidental catch by CDQ vessels, in target fisheries other than pollock from 2003 through 2010. During this 8-year period, the incidental catch of pollock ranged from a low of 5 percent in 2006 to a high of 10 percent in 2003, with an 8-year average of 7 percent.

Pursuant to § 679.20(a)(8) and (10), NMFS proposes ICAs of 5,000 mt of flathead sole, 10,000 mt of rock sole, 2,000 mt of yellowfin sole, 10 mt of Western Aleutian District Pacific ocean perch, 75 mt of Central Aleutian District Pacific ocean perch, 100 mt of Eastern Aleutian District Pacific ocean perch, 40 mt for Western Aleutian District Atka mackerel, 75 mt for Central Aleutian District Atka mackerel, and 75 mt of Eastern Aleutian District and Bering Sea subarea Atka mackerel after subtraction of the 10.7 percent CDQ reserve. These allowances are based on NMFS' examination of the average incidental catch in other target fisheries from recent years.

The regulations do not designate the remainder of the non-specified reserve by species or species group. Any amount of the reserve may be apportioned to a target species that contributed to the non-specified reserve, provided that such apportionments do not result in overfishing (see § 679.20(b)(1)(i)).

Allocations of Pollock TAC Under the American Fisheries Act (AFA)

Section 679.20(a)(5)(i)(A) requires that the pollock TAC apportioned to the Bering Sea subarea, after subtraction of 10 percent for the CDQ program and 4 percent for the ICA, be allocated as a DFA as follows: 50 percent to the inshore sector, 40 percent to the catcher/processor sector, and 10 percent to the mothership sector. In the Bering Sea subarea, 40 percent of the DFA is allocated to the A season (January 20 to June 10) and 60 percent of the DFA is allocated to the B season (June 10 to November 1) (§ 679.20(a)(5)(i)(B)). The AI directed pollock fishery allocation to the Aleut Corporation is the amount of pollock remaining in the AI subarea after subtracting 1,900 mt for the CDQ DFA (10 percent) and 1,600 mt for the ICA (§ 679.20(a)(5)(iii)(B)(2)(ii)). In the AI subarea, 40 percent of the ABC is allocated to the A season and the remainder of the directed pollock fishery is allocated to the B season. Table 2 lists these proposed 2011 and 2012 amounts.

Section 679.20(a)(5)(i)(A)(4) also includes several specific requirements regarding Bering Sea subarea pollock allocations. First, 8.5 percent of the pollock allocated to the catcher/processor sector will be available for harvest by AFA catcher vessels with catcher/processor sector endorsements, unless the Regional Administrator receives a cooperative contract that provides for the distribution of harvest among AFA catcher/processors and AFA catcher vessels in a manner agreed to by all members. Second, AFA catcher/processors not listed in the AFA are limited to harvesting not more than 0.5 percent of the pollock allocated to the catcher/processor sector. Tables 2a and 2b list the proposed 2011 and 2012 allocations of pollock TAC. Tables 9 through 12 list the AFA catcher/processor and catcher vessel harvesting sideboard limits. In past years, the proposed harvest specifications included text and tables describing pollock allocations to the Bering Sea subarea inshore pollock cooperatives and open access sector. These allocations are based on the submission of AFA inshore cooperative applications due to NMFS on December 1 of each calendar year. Because AFA inshore cooperative applications for 2011 have not been submitted to NMFS, thereby preventing NMFS from calculating 2011 allocations, NMFS has not included inshore cooperative text and tables in these proposed harvest specifications. NMFS will post 2011 AFA inshore cooperative allocations on the Alaska Region Web site at http://alaskafisheries.noaa.gov when they become available in December 2010.

Table 2 also lists proposed seasonal apportionments of pollock and harvest limits within the Steller Sea Lion Conservation Area (SCA). The harvest of pollock within the SCA, as defined at § 679.22(a)(7)(vii), is limited to 28 percent of the DFA until April 1 (§ 679.20(a)(5)(i)(C)). The remaining 12 percent of the 40 percent annual DFA allocated to the A season may be taken outside the SCA before April 1 or inside the SCA after April 1. If less than 28 percent of the annual DFA is taken inside the SCA before April 1, the remainder will be available to be taken inside the SCA after April 1. The A season pollock SCA harvest limit will be apportioned to each sector in proportion to each sector's allocated percentage of the DFA. Tables 2a and 2b list these proposed 2011 and 2012 amounts by sector.

Table 2a—Proposed 2011 Allocations of Pollock Tacs to the Directed Pollock Fisheries and to the CDQ Directed Fishing Allowances (DFA) ¹
[Amounts are in metric tons]
Area and sector | 2011 Allocations | 2011 A season: A season DFA | 2011 A season: SCA harvest limit ² | 2011 B season ¹: B season DFA
Bering Sea subarea TAC | 1,107,000 | N/A | N/A | N/A
CDQ DFA | 110,700 | 44,280 | 30,996 | 66,420
ICA ¹ | 39,852 | N/A | N/A | N/A
AFA Inshore | 478,224 | 191,290 | 133,903 | 286,934
AFA Catcher/Processors ³ | 382,579 | 153,032 | 107,122 | 229,548
Catch by C/Ps | 350,060 | 140,024 | N/A | 210,036
Catch by C/Vs ³ | 32,519 | 13,008 | N/A | 19,512
Unlisted C/P Limit ⁴ | 1,913 | 765 | N/A | 1,148
AFA Motherships | 95,645 | 38,258 | 26,781 | 57,387
Excessive Harvesting Limit ⁵ | 167,378 | N/A | N/A | N/A
Excessive Processing Limit ⁶ | 286,934 | N/A | N/A | N/A
Total Bering Sea DFA (non-CDQ) | 956,448 | 382,579 | 267,805 | 573,869
Aleutian Islands subarea¹ | 19,000 | N/A | N/A | N/A
CDQ DFA | 1,900 | 760 | N/A | 1,140
ICA | 1,600 | 800 | N/A | 800
Aleut Corporation | 15,500 | 10,600 | N/A | 4,900
Bogoslof District ICA ⁷ | 10 | N/A | N/A | N/A
¹ Pursuant to § 679.20(a)(5)(i)(A), the annual Bering Sea subarea pollock TAC, after subtraction for the CDQ DFA (10 percent) and the ICA (3.5 percent), is allocated as a DFA as follows: inshore sector 50 percent, catcher/processor sector 40 percent, and mothership sector 10 percent. In the Bering Sea subarea, 40 percent of the DFA is allocated to the A season (January 20-June 10) and 60 percent of the DFA is allocated to the B season (June 10-November 1). Pursuant to § 679.20(a)(5)(iii)(B)(2)(i) and (ii), the annual AI pollock TAC, after subtracting first for the CDQ DFA (10 percent) and second the ICA (1,600 mt), is allocated to the Aleut Corporation for a directed pollock fishery. In the AI subarea, the A season is allocated 40 percent of the ABC and the B season is allocated the remainder of the directed pollock fishery.
² In the Bering Sea subarea, no more than 28 percent of each sector's annual DFA may be taken from the SCA before April 1. The remaining 12 percent of the annual DFA allocated to the A season may be taken outside of the SCA before April 1 or inside the SCA after April 1. If 28 percent of the annual DFA is not taken inside the SCA before April 1, the remainder is available to be taken inside the SCA after April 1.
³ Pursuant to § 679.20(a)(5)(i)(A)(4), not less than 8.5 percent of the DFA allocated to listed catcher/processors (C/Ps) shall be available for harvest only by eligible catcher vessels (CVs) delivering to listed catcher/processors.
⁴ Pursuant to § 679.20(a)(5)(i)(A)(4)(iii), the AFA unlisted catcher/processors are limited to harvesting not more than 0.5 percent of the catcher/processor sector's allocation of pollock.
⁵ Pursuant to § 679.20(a)(5)(i)(A)(6), NMFS establishes an excessive harvesting share limit equal to 17.5 percent of the sum of the pollock DFAs not including CDQ.
⁶ Pursuant to § 679.20(a)(5)(i)(A)(7), NMFS establishes an excessive processing share limit equal to 30.0 percent of the sum of the pollock DFAs not including CDQ.
⁷ The Regional Administrator proposes closing the Bogoslof pollock fishery for directed fishing under the final 2011 and 2012 harvest specifications for the BSAI. The amounts specified are for incidental catch only and are not apportioned by season or sector.

Table 2b—Proposed 2012 Allocations of Pollock TACS to the Directed Pollock Fisheries and to the CDQ Directed Fishing Allowances (DFA) ¹
[Amounts are in metric tons]
Area and sector | 2012 Allocations | 2012 A season: A season DFA | 2012 A season: SCA harvest limit ² | 2012 B season¹: B season DFA
Bering Sea subarea TAC | 1,105,000 | N/A | N/A | N/A
CDQ DFA | 110,500 | 44,200 | 30,940 | 66,300
ICA ¹ | 39,780 | N/A | N/A | N/A
AFA Inshore | 477,360 | 190,944 | 133,661 | 286,416
AFA Catcher/Processors³ | 381,888 | 152,755 | 106,929 | 229,133
Catch by C/Ps | 349,428 | 139,771 | N/A | 209,657
Catch by C/Vs³ | 32,460 | 12,984 | N/A | 19,476
Unlisted C/P Limit ⁴ | 1,909 | 764 | N/A | 1,146
AFA Motherships | 95,472 | 38,189 | 26,732 | 57,283
Excessive Harvesting Limit ⁵ | 167,076 | N/A | N/A | N/A
Excessive Processing Limit ⁶ | 286,416 | N/A | N/A | N/A
Total Bering Sea DFA (non-CDQ) | 954,720 | 381,888 | 267,322 | 572,832
Aleutian Islands subarea ¹ | 19,000 | N/A | N/A | N/A
CDQ DFA | 1,900 | 760 | N/A | 1,140
ICA | 1,600 | 800 | N/A | 800
Aleut Corporation | 15,500 | 10,600 | N/A | 4,900
Bogoslof District ICA ⁷ | 10 | N/A | N/A | N/A
¹ Pursuant to § 679.20(a)(5)(i)(A), the annual Bering Sea subarea pollock TAC, after subtraction for the CDQ DFA (10 percent) and the ICA (3.5 percent), is allocated as a DFA as follows: Inshore sector 50 percent, catcher/processor sector 40 percent, and mothership sector 10 percent. In the Bering Sea subarea, 40 percent of the DFA is allocated to the A season (January 20-June 10) and 60 percent of the DFA is allocated to the B season (June 10-November 1). Pursuant to § 679.20(a)(5)(iii)(B)(2), the annual AI pollock TAC, after subtracting first for the CDQ DFA (10 percent) and second the ICA (1,600 mt), is allocated to the Aleut Corporation for a directed pollock fishery. In the AI subarea, the A season is allocated 40 percent of the ABC and the B season is allocated the remainder of the directed pollock fishery.
² In the Bering Sea subarea, no more than 28 percent of each sector's annual DFA may be taken from the SCA before April 1. The remaining 12 percent of the annual DFA allocated to the A season may be taken outside of the SCA before April 1 or inside the SCA after April 1. If 28 percent of the annual DFA is not taken inside the SCA before April 1, the remainder is available to be taken inside the SCA after April 1.
³ Pursuant to § 679.20(a)(5)(i)(A)(4), not less than 8.5 percent of the DFA allocated to listed catcher/processors (C/Ps) shall be available for harvest only by eligible catcher vessels (CVs) delivering to listed catcher/processors.
⁴Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the pollock DFAs not including CDQ.
⁶ Pursuant to § 679.20(a)(5)(i)(A)(7), NMFS establishes an excessive processing share limit equal to 30.0 percent of the sum of the pollock DFAs not including CDQ.
⁷ The Regional Administrator proposes closing the Bogoslof pollock fishery for directed fishing under the final 2011 and 2012 harvest specifications for the BSAI. The amounts specified are for incidental catch only and are not apportioned by season or sector.

Allocation of the Atka Mackerel TACs

The proposed harvest specifications for Atka mackerel reflect the current regulatory provisions for temporal and spatial distribution of Atka mackerel harvest in the BSAI. However, as mentioned above, these provisions are subject to change by separate rulemaking prior to January 1, 2011, based on the reasonable and prudent alternative selected in the 2010 Alaska groundfish fisheries biological opinion.

Section 679.20(a)(8)(ii) allocates the Atka mackerel TACs to the Amendment 80 and BSAI trawl limited access sectors, after subtraction of the CDQ reserves, jig gear allocation, and ICAs for the BSAI trawl limited access sector and non-trawl gear. Table 3 lists these proposed 2011 and 2012 amounts.

The allocation of the ITAC for Atka mackerel to the Amendment 80 and BSAI trawl limited access sectors is established in Table 33 to part 679 and in § 679.91. Two Amendment 80 cooperatives have formed for the 2011 fishing year. Because all Amendment 80 vessels are part of a cooperative, no allocation to the Amendment 80 limited access sector is required. NMFS will post 2011 Amendment 80 cooperative allocations on the Alaska Region Web site at http://alaskafisheries.noaa.gov prior to the start of the fishing year on January 1, 2011, based on the harvest specifications effective on that date.

The 2012 allocations for Amendment 80 species between Amendment 80 cooperatives and the Amendment 80 limited access sector will not be known until November 1, 2011, which is the deadline for eligible participants to apply for participation in the Amendment 80 program. Amendment 80 applications for 2012 have not yet been submitted to NMFS, thereby preventing NMFS from calculating 2012 allocations. Thus, NMFS has not included 2012 allocations to the Amendment 80 cooperatives or Amendment 80 limited access sector in these proposed harvest specifications. NMFS will post 2012 Amendment 80 cooperatives and Amendment 80 limited access allocations on the Alaska Region Web site at http://alaskafisheries.noaa.gov when they become available in December 2012.

Pursuant to § 679.20(a)(8)(i), up to 2 percent of the Eastern Aleutian District and Bering Sea subarea Atka mackerel ITAC may be allocated to jig gear. The amount of this allocation is determined annually by the Council based on several criteria, including the anticipated harvest capacity of the jig gear fleet. The Council recommended and NMFS proposes a 0.5 percent allocation of the Atka mackerel ITAC in the Eastern Aleutian District and Bering Sea subarea to jig gear in 2011 and 2012. This percentage is applied after subtractions of the CDQ reserve and the ICA.

Section 679.20(a)(8)(ii)(A) apportions the Atka mackerel ITAC into two equal seasonal allowances. The first seasonal allowance is made available for directed fishing from January 1 (January 20 for trawl gear) to April 15 (A season), and the second seasonal allowance is made available from September 1 to November 1 (B season). The jig gear allocation is not apportioned by season.

Pursuant to § 679.20(a)(8)(ii)(C)(1), the Regional Administrator will establish a harvest limit area (HLA) limit of no more than 60 percent of the seasonal TAC for the Western and Central Aleutian Districts.

NMFS will establish HLA limits for the CDQ reserve and each of the three non-CDQ fishery categories: the BSAI trawl limited access sector, the Amendment 80 limited access fishery, and an aggregate HLA limit applicable to all Amendment 80 cooperatives. NMFS will assign vessels in each of the three non-CDQ fishery categories that apply to fish for Atka mackerel in the HLA to an HLA fishery based on a random lottery of the vessels that apply (see § 679.20(a)(8)(iii)(B)(1)). There is no allocation of Atka mackerel to the BSAI trawl limited access sector in the Western Aleutian District. Therefore, no vessels in the BSAI trawl limited access sector will be assigned to the Western Aleutian District HLA fishery.

Each trawl sector will have a separate lottery. A maximum of two HLA fisheries will be established in Area 542 for the BSAI trawl limited access sector. A maximum of four HLA fisheries will be established for vessels assigned to Amendment 80 cooperatives: A first and second HLA fishery in Area 542, and a first and second HLA fishery in Area 543. A maximum of four HLA fisheries will be established for vessels assigned to the Amendment 80 limited access fishery: A first and second HLA fishery in Area 542, and a first and second HLA fishery in Area 543. NMFS will initially open fishing for the first HLA fishery in all three fishery categories at the same time. The initial opening of fishing in the HLA will be based on the first directed fishing closure of Atka mackerel for the Eastern Aleutian District and Bering Sea subarea allocation for any one of the three non-CDQ fishery categories allocated Atka mackerel TAC.

Table 3—Proposed 2011 and 2012 Seasonal and Spatial Allowances, Gear Shares, CDQ Reserve, Incidental Catch Allowance, and Amendment 80 Allocations of the BSAI Atka Mackerel TAC
[Amounts are in metric tons]
Sector ¹ | Season 2 3 4 | 2011 allocation by area: Eastern Aleutian District/ Bering Sea | 2011 allocation by area: Central Aleutian District | 2011 allocation by area: Western Aleutian District | 2012 allocation by area: Eastern Aleutian District/Bering Sea | 2012 allocation by area: Central Aleutian District | 2012 allocation by area: Western Aleutian District
TAC | n/a | 20,900 | 26,000 | 18,100 | 20,900 | 26,000 | 18,100
CDQ reserve | Total | 2,236 | 2,782 | 1,937 | 2,236 | 2,782 | 1,937
| HLA ⁵ | n/a | 1,669 | 1,162 | n/a | 1,669 | 1,162
ICA | Total | 75 | 75 | 40 | 75 | 75 | 40
Jig⁶ | Total | 93 | 0 | 0 | 93 | 0 | 0
BSAI trawl limited access | Total | 1,480 | 1,851 | 0 | 1,850 | 2,314 | 0
| A | 740 | 926 | 0 | 925 | 1,157 | 0
| HLA | n/a | 555 | 0 | n/a | 694 | 0
| B | 740 | 926 | 0 | 925 | 1,157 | 0
| HLA | n/a | 555 | 0 | n/a | 694 | 0
Amendment 80—Alaska Seafood Cooperative | Total | 7,988 | 8,478 | 6,182 | n/a | n/a | n/a
| A | 3,994 | 4,239 | 3,091 | n/a | n/a | n/a
| HLA | n/a | 2,544 | 1,855 | n/a | n/a | n/a
| B | 3,994 | 4,239 | 3,091 | n/a | n/a | n/a
| HLA | n/a | 2,544 | 1,855 | n/a | n/a | n/a
Amendment 80—Alaska Groundfish Cooperative | Total | 9,028 | 12,813 | 9,941 | n/a | n/a | n/a
| A | 4,514 | 6,407 | 4,971 | n/a | n/a | n/a
| HLA | n/a | 3,844 | 2,982 | n/a | n/a | n/a
| B | 4,514 | 6,407 | 4,971 | n/a | n/a | n/a
| HLA | n/a | 3,844 | 2,982 | n/a | n/a | n/a
¹ Section 679.20(a)(8)(ii) allocates the Atka mackerel TACs, after subtraction of the CDQ reserves, ICAs, and the jig gear allocation, to the Amendment 80 and BSAI trawl limited access sectors. The allocation of the ITAC for Atka mackerel to the Amendment 80 and BSAI trawl limited access sectors is established in Table 33 to part 679 and in § 679.91. The CDQ reserve is 10.7 percent of the TAC for use by CDQ participants (see §§ 679.20(b)(1)(ii)(C) and 679.31).
² Regulations at §§ 679.20(a)(8)(ii)(A) and 679.22(a) establish temporal and spatial limitations for the Atka mackerel fishery.
³ The seasonal allowances of Atka mackerel are 50 percent in the A season and 50 percent in the B season.
⁴ The A season is January 1 (January 20 for trawl gear) to April 15, and the B season is September 1 to November 1. These allowances are subject to change under ongoing Section 7 Consultation addressing impacts of the groundfish fisheries on endangered Steller sea lions.
⁵ Harvest Limit Area (HLA) limit refers to the amount of each seasonal allowance that is available for fishing inside the HLA (see § 679.2). In 2010 and 2011, 60 percent of each seasonal allowance is available for fishing inside the HLA in the Western and Central Aleutian Districts. These HLA limits are subject to change under ongoing Section 7 Consultation addressing impacts of the groundfish fisheries on endangered Steller sea lions.
⁶ Section 679.20(a)(8)(i) requires that up to 2 percent of the Eastern Aleutian District and Bering Sea subarea TAC be allocated to jig gear after subtraction of the CDQ reserve and ICA. The amount of this allocation is 0.5 percent. The jig gear allocation is not apportioned by season.

Allocation of the Pacific Cod TAC

The proposed harvest specifications for Pacific cod reflect the current regulatory provisions for temporal and spatial distribution of Pacific cod harvest in the Aleutian Islands subarea. However, as mentioned above, these provisions are subject to changes by separate rulemaking prior to January 1, 2011, based on the reasonable and prudent alternative selected in the 2010 Alaska groundfish fisheries biological opinion.

Sections 679.20(a)(7)(i) and (ii) allocates the Pacific cod TAC in the BSAI, after subtraction of 10.7 percent for the CDQ program, as follows: 1.4 percent to vessels using jig gear, 2.0 percent to hook-and-line and pot catcher vessels less than 60 ft (18.3 m) length overall (LOA), 0.2 percent to hook-and-line catcher vessels greater than or equal to 60 ft (18.3 m) LOA, 48.7 percent to hook-and-line catcher/processors, 8.4 percent to pot catcher vessels greater than or equal to 60 ft (18.3 m) LOA, 1.5 percent to pot catcher/processors, 2.3 percent to AFA trawl catcher/processors, 13.4 percent to non-AFA trawl catcher/processors, and 22.1 percent to trawl catcher vessels. The ICA for the hook-and-line and pot sectors will be deducted from the aggregate portion of Pacific cod TAC allocated to the hook-and-line and pot sectors. For 2011 and 2012, the Regional Administrator proposes an ICA of 500 mt based on anticipated incidental catch in these fisheries.

The allocation of the ITAC for Pacific cod to the Amendment 80 sector is established in Table 33 to part 679 and § 679.91. Two Amendment 80 cooperatives have formed for the 2011 fishing year. Because all Amendment 80 vessels are part of a cooperative, no allocation to the Amendment 80 limited access sector is required. NMFS will post 2011 Amendment 80 cooperative allocations on the Alaska Region Web site at http://alaskafisheries.noaa.gov prior to the start of the fishing year on January 1, 2011, based on the harvest specifications effective on that date.

The 2012 allocations for Amendment 80 species between Amendment 80 cooperatives and the Amendment 80 limited access sector will not be known until November 1, 2011, which is the deadline for eligible participants to apply for participation in the Amendment 80 program. Amendment 80 applications for 2012 have not yet been submitted to NMFS, thereby preventing NMFS from calculating 2012 allocations. Thus, NMFS has not included 2012 allocations to the Amendment 80 cooperatives or Amendment 80 limited access sector in these proposed harvest specifications. NMFS will post 2012 Amendment 80 cooperatives and Amendment 80 limited access allocations on the Alaska Region Web site at http://alaskafisheries.noaa.gov when they become available in December 2012.

The Pacific cod ITAC is apportioned into seasonal allowances to disperse the Pacific cod fisheries over the fishing year (see §§ 679.20(a)(7) and 679.23(e)(5)). In accordance with § 679.20(a)(7)(iv)(B) and (C), any unused portion of a seasonal Pacific cod allowance will become available at the beginning of the next seasonal allowance.

The CDQ and non-CDQ season allowances by gear based on the proposed 2011 and 2012 Pacific cod TACs are listed in Table 4 based on the sector allocation percentages of Pacific cod set forth at §§ 679.20(a)(7)(i)(B) and 679.20(a)(7)(iv)(A); and the seasonal allowances of Pacific cod set forth at § 679.23(e)(5).

Table 4—Proposed 2011 and 2012 Gear Shares and Seasonal Allowances of the BSAI Pacific Cod TAC
[Amounts are in metric tons]
Gear sector | Percent | 2011 and 2012 share of gear sector total | 2011 and 2012 share of sector total | 2011 and 2012 seasonal apportionment: Season | 2011 and 2012 seasonal apportionment: Amount
Total TAC | 100 | 207,580 | n/a | n/a | n/a
CDQ | 10.7 | 22,211 | n/a | See § 679.20(a)(7)(i)(B) | n/a
Total hook-and-line/pot gear | 60.8 | 112,704 | n/a | n/a | n/a
Hook-and-line/pot ICA ¹ | n/a | n/a | 500 | n/a | n/a
Hook-and-line/pot sub-total | n/a | 112,204 | n/a | n/a | n/a
Hook-and-line catcher/processors | 48.7 | n/a | 89,874 | Jan 1-Jun 10 Jun 10-Dec 31 | 45,836 44,038
Hook-and-line catcher vessels > 60 ft LOA | 0.2 | n/a | 369 | Jan 1-Jun 10 Jun 10-Dec 31 | 188 181
Pot catcher/processors | 1.5 | n/a | 2,768 | Jan 1-Jun 10 Sept 1-Dec 31 | 1,412 1,356
Pot catcher vessels ≥ 60 ft LOA | 8.4 | n/a | 15,502 | Jan 1-Jun 10 Sept 1-Dec 31 | 7,906 7,596
Catcher vessels < 60 ft LOA using hook-and-line or pot gear | 2 | n/a | 3,691 | n/a | n/a
Trawl catcher vessels | 22.1 | 40,967 | n/a | Jan 20-Apr 1 Apr 1-Jun 10 Jun 10-Nov 1 | 30,315 4,506 6,145
AFA trawl catcher processors | 2.3 | 4,263 | n/a | Jan 20-Apr 1 Apr 1-Jun 10 Jun 10-Nov 1 | 3,198 1,066 0
Amendment 80 | 13.4 | 24,839 | n/a | Jan 20-Apr 1 Apr 1-Jun 10 Jun 10-Nov 1 | 18,630 6,210 0
Amendment 80—Alaska Groundfish Cooperative for 2011 ² | n/a | 4,625 | n/a | Jan 20-Apr 1 Apr 1-Jun 10 Jun 10-Nov 1 | 3,469 1,156 0
Amendment 80—Alaska Seafood Cooperative for 2011 ² | n/a | 20,214 | n/a | Jan 20-Apr 1 Apr 1-Jun 10 Jun 10-Nov 1 | 15,161 5,054 0
Jig | 1.4 | 2,595 | n/a | Jan 1-Apr 30 Apr 30-Aug 31 Aug 31-Dec 31 | 1,557 519 519
¹ The ICA for the hook-and-line and pot sectors will be deducted from the aggregate portion of Pacific cod TAC allocated to the hook-and-line and pot sectors. The Regional Administrator proposes an ICA of 500 mt for 2011 and 2012 based on anticipated incidental catch in these fisheries.
² The 2012 allocations for Amendment 80 species between Amendment 80 cooperatives and the Amendment 80 limited access sector will not be known until November 1, 2011, the deadline for eligible participants to apply for participation in the Amendment 80 program.

Sablefish Gear Allocation

Sections 679.20(a)(4)(iii) and (iv) require the allocation of sablefish TACs for the Bering Sea and AI subareas between trawl gear and hook-and-line or pot gear. Gear allocations of the TACs for the Bering Sea subarea are 50 percent for trawl gear and 50 percent for hook-and-line or pot gear. Gear allocations for the AI subarea are 25 percent for trawl gear and 75 percent for hook-and-line or pot gear. Section 679.20(b)(1)(ii)(B) requires apportionment of 20 percent of the hook-and-line and pot gear allocation of sablefish to the CDQ reserve. Additionally, § 679.20(b)(1)(ii)(D) requires apportionment of 7.5 percent of the trawl gear allocation of sablefish to the CDQ reserve. The Council recommended that only trawl sablefish TAC be established biennially. The harvest specifications for the hook-and-line gear and pot gear sablefish Individual Fishing Quota (IFQ) fisheries will be limited to the 2011 fishing year to ensure those fisheries are conducted concurrently with the halibut IFQ fishery. Concurrent sablefish and halibut IFQ fisheries would reduce the potential for discards of halibut and sablefish in those fisheries. The sablefish IFQ fisheries would remain closed at the beginning of each fishing year until the final harvest specifications for the sablefish IFQ fisheries are in effect. Table 5 lists the proposed 2011 and 2012 gear allocations of the sablefish TAC and CDQ reserve amounts.

Table 5—Proposed 2011 and 2012 Gear Shares and CDQ Reserve Sablefish Tacs of BSAI
[Amounts are in metric tons]
Subarea gear | Percent of TAC | 2011 Share of TAC | 2011 ITAC¹ | 2011 CDQ reserve | 2012 Share of TAC | 2012 ITAC | 2012 CDQ reserve
Bering Sea
Trawl | 50 | 1,250 | 1,063 | 94 | 1,250 | 1,063 | 94
Hook-and-line gear ² | 50 | 1,250 | n/a | 250 | n/a | n/a | n/a
Total | 100 | 2,500 | 1,063 | 344 | 2,500 | 1,063 | 94
Aleutian Islands
Trawl | 25 | 510 | 434 | 38 | 510 | 434 | 38
Hook-and-line gear ² | 75 | 1,530 | n/a | 306 | n/a | n/a | n/a
Total | 100 | 2,040 | 434 | 344 | 2,040 | 434 | 38
¹ Except for the sablefish hook-and-line or pot gear allocation, 15 percent of TAC is apportioned to the reserve. The ITAC is the remainder of the TAC after the subtraction of these reserves.
² For the portion of the sablefish TAC allocated to vessels using hook-and-line or pot gear, 20 percent of the allocated TAC is reserved for use by CDQ participants. Section 679.20(b)(1) does not provide for the establishment of an ITAC for sablefish allocated to hook-and-line or pot gear.

Allocation of the Aleutian Islands Pacific Ocean Perch, and BSAI Flathead Sole, Rock Sole, and Yellowfin Sole TACs

Sections 679.20(a)(10)(i) and (ii) require the allocation between the Amendment 80 and BSAI trawl limited access sectors for Aleutian Islands Pacific ocean perch, and BSAI flathead sole, rock sole, and yellowfin sole TACs, after subtraction of 10.7 percent for the CDQ reserve and an ICA for the BSAI trawl limited access sector and vessels using non-trawl gear. The allocation of the ITAC for Aleutian Islands Pacific ocean perch, and BSAI flathead sole, rock sole, and yellowfin sole to the Amendment 80 sector is established in Tables 33 and 34 to part 679 and in § 679.91.

Two Amendment 80 cooperatives have formed for the 2011 fishing year. Because all Amendment 80 vessels are part of a cooperative, no allocation to the Amendment 80 limited access sector is required. NMFS will post 2011 Amendment 80 cooperative allocations on the Alaska Region Web site at http://alaskafisheries.noaa.gov prior to the start of the fishing year on January 1, 2011, based on the harvest specifications effective on that date.

The 2012 allocations for Amendment 80 species between Amendment 80 cooperatives and the Amendment 80 limited access sector will not be known until November 1, 2011, which is the deadline for eligible participants to apply for participation in the Amendment 80 program. Amendment 80 applications for 2012 have not yet been submitted to NMFS, thereby preventing NMFS from calculating 2012 allocations. Thus, NMFS has not included 2012 allocations to the Amendment 80 cooperatives or Amendment 80 limited access sector in these proposed harvest specifications. NMFS will post 2012 Amendment 80 cooperatives and Amendment 80 limited access allocations on the Alaska Region Web site at http://alaskafisheries.noaa.gov when they become available in December 2012.

Table 6 lists the proposed 2011 and 2012 allocations and seasonal apportionments of the Aleutian Islands Pacific ocean perch, and BSAI flathead sole, rock sole, and yellowfin sole TACs.

Table 6—Proposed 2011 and 2012 Community Development Quota (CDQ) Reserves, Incidental Catch Amounts (ICAS), and Amendment 80 Allocations of the Aleutian Islands Pacific Ocean Perch, and BSAI Flathead Sole, Rock Sole, and Yellowfin Sole TACS
[Amounts are in metric tons]
Sector | 2011 and 2012 allocations: Pacific ocean perch: Eastern Aleutian District | 2011 and 2012 allocations: Pacific ocean perch: Central Aleutian District | 2011 and 2012 allocations: Pacific ocean perch: Western Aleutian District | 2011 and 2012 allocations: Flathead sole: BSAI | 2011 and 2012 allocations: Rock sole BSAI | 2011 and 2012 allocations: Yellowfin sole BSAI
TAC | 4,180 | 4,230 | 6,480 | 60,000 | 90,000 | 213,000
CDQ | 447 | 453 | 693 | 6,420 | 9,630 | 22,791
ICA | 100 | 75 | 10 | 5,000 | 10,000 | 2,000
BSAI trawl limited access | 363 | 370 | 116 | 0 | 0 | 40,226
Amendment 80 | 3,270 | 3,332 | 5,661 | 48,580 | 70,370 | 147,983
Amendment 80—Alaska Groundfish Cooperative for 2011¹ | 1,734 | 1,767 | 3,002 | 9,487 | 19,752 | 62,815
Amendment 80—Alaska Seafood Cooperative for 2011¹ | 1,536 | 1,565 | 2,659 | 39,093 | 50,618 | 85,168
¹ The 2012 allocations for Amendment 80 species between Amendment 80 cooperatives and the Amendment 80 limited access sector will not be known until November 1, 2011, the deadline for eligible participants to apply for participation in the Amendment 80 program.

Allocation of PSC Limits for Halibut, Salmon, Crab, and Herring

Section 679.21(e) sets forth the BSAI PSC limits. Pursuant to § 679.21(e)(1)(iv) and (e)(2), the 2011 and 2012 BSAI halibut mortality limits are 3,675 mt for trawl fisheries and 900 mt for the non-trawl fisheries. Sections 679.21(e)(3)(i)(A)(2) and (e)(4)(i)(A) allocate 326 mt of the trawl halibut mortality limit and 7.5 percent, or 67 mt, of the non-trawl halibut mortality limit as the PSQ reserve for use by the groundfish CDQ program. Section 679.21(e)(1)(viii) specifies 700 fish as the 2011 and 2012 Chinook salmon PSC limit for the AI subarea pollock fishery. Section 679.21(e)(3)(i)(A)(3)(i) allocates 7.5 percent, or 53 Chinook salmon, as the AI subarea PSQ for the CDQ program and allocates the remaining 647 Chinook salmon to the non-CDQ fisheries. Section 679.21(e)(1)(vii) specifies 42,000 fish as the 2011 and 2012 non-Chinook salmon PSC limit. Section 679.21(e)(3)(i)(A)(3)(ii) allocates 10.7 percent, or 4,494 non-Chinook salmon, as the PSQ for the CDQ program and allocates the remaining 37,506 non-Chinook salmon to the non-CDQ fisheries.

Amendment 91 (75 FR 53026, August 30, 2010), establishes two Chinook salmon PSC limits (60,000 Chinook salmon and 47,591 Chinook salmon) for the Bering Sea pollock fishery. For each PSC limit, NMFS will issue A season and B season Chinook salmon PSC allocations to the catcher/processor sector, the mothership sector, the inshore cooperatives, and the CDQ groups. Chinook salmon allocations remaining from the A season can be used in the B season. Entities can transfer PSC allocations within a season and can also receive transfers of Chinook salmon PSC to cover overages.

NMFS will issue transferable allocations of the 60,000 Chinook salmon PSC limit to those sectors that participate in an incentive plan agreement (IPA) and remain in compliance with the performance standard. Sector and cooperative allocations would be reduced if members of the sector or cooperative decided not to participate in an IPA. Vessels and CDQ groups that do not participate in an IPA would fish under a restricted opt-out allocation of Chinook salmon. If an entire sector does not participate in an IPA, all members of that sector would fish under the opt-out allocation.

Each year, each sector will be issued an annual threshold amount that represents that sector's portion of 47,591 Chinook salmon. For a sector to continue to receive Chinook salmon PSC allocations under the 60,000 Chinook salmon PSC limit, that sector must not exceed its annual threshold amount 3 times within 7 consecutive years. If a sector fails this performance standard, it will permanently be allocated a portion of the 47,591 Chinook salmon PSC limit. NMFS will issue transferable allocations of the 47,591 Chinook salmon PSC limit to all sectors, cooperatives, and CDQ groups if no IPA is approved, or to the sectors that exceed the performance standard. When a PSC allocation is reached, the affected sector, inshore cooperative, or CDQ group would have to stop fishing for pollock for the remainder of the season even if its pollock allocation had not been fully harvested.

Each year, NMFS will release to the public and publish on the NMFS Alaska Region Web site (http://alaskafisheries.noaa.gov): (A) The Chinook salmon PSC allocations for each entity receiving a transferable allocation; (B) the non-transferable Chinook salmon PSC allocations; (C) the vessels fishing under each transferable or non-transferable allocation; (D) the amount of Chinook salmon bycatch that accrues towards each transferable or non-transferable allocation; and (E) any changes to these allocations due to transfers, rollovers, and deductions from the B season non-transferable allocations.

PSC limits for crab and herring are specified annually based on abundance and spawning biomass. Due to the lack of new information as of October 2010 regarding red king crab and herring PSC limits and apportionments, the Council recommended and NMFS proposes using the crab and herring 2011 and 2012 PSC limits and apportionments for the proposed 2011 and 2012 limits and apportionments. The Council will reconsider these amounts in December 2010. Pursuant to § 679.21(e)(3)(i)(A)(1), 10.7 percent of each PSC limit specified for crab is allocated as a PSQ reserve for use by the groundfish CDQ program.

The red king crab mature female abundance is estimated from the 2009 survey data at 35 million red king crabs, and the effective spawning biomass is estimated at 75 million lb (34,020 mt). Based on the criteria set out at § 679.21(e)(1)(i), the proposed 2011 and 2012 PSC limit of red king crab in Zone 1 for trawl gear is 197,000 animals. This limit derives from the mature female abundance estimate of more than 8.4 million king crab and the effective spawning biomass estimate of more than 55 million lbs (24,948 mt).

Section 679.21(e)(3)(ii)(B)(2) establishes criteria under which NMFS must specify an annual red king crab bycatch limit for the Red King Crab Savings Subarea (RKCSS). The regulations limit the RKCSS to up to 25 percent of the red king crab PSC allowance based on the need to optimize the groundfish harvest relative to red king crab bycatch. NMFS proposes the Council's recommendation that the red king crab bycatch limit be equal to 25 percent of the red king crab PSC allowance within the RKCSS (Table 7b). Based on 2010 survey data, Tanner crab (Chionoecetes bairdi) abundance is estimated at 379 million animals. Given the criteria set out at § 679.21(e)(1)(ii), the calculated 2011 and 2012 C. bairdi crab PSC limit for trawl gear is 830,000 animals in Zone 1 and 2,520,000 animals in Zone 2. These limits derive from the C. bairdi crab abundance estimate being in excess of the 270 million animals for the Zone 1 allocation and 290 million animals for the Zone 2 allocation, but less than 400 million animals for both zones allocations. These limits are specified in § 679.21(e)(1)(ii).

Pursuant to § 679.21(e)(1)(iii), the PSC limit for snow crab (C. opilio) is based on total abundance as indicated by the NMFS annual bottom trawl survey. The C. opilio crab PSC limit is set at 0.1133 percent of the Bering Sea abundance index. Based on the 2010 survey estimate of 7.5 billion animals, the calculated limit is 8,460,480 animals.

Pursuant to § 679.21(e)(1)(v), the PSC limit of Pacific herring caught while conducting any trawl operation for BSAI groundfish is 1 percent of the annual eastern Bering Sea herring biomass. The best estimate of 2011 and 2012 herring biomass is 197,400 mt. This amount was derived using 2009 survey data and an age-structured biomass projection model developed by the Alaska Department of Fish and Game. Therefore, the herring PSC limit proposed for 2011 and 2012 is 1,974 mt for all trawl gear as presented in Tables 7a and 7b. Due to the lack of new information as of October 2010 regarding herring biomass, the Council recommended and NMFS proposes using the 2009 PSC limit for herring for the proposed 2011 and 2012 limits and apportionments. The Council will reconsider these amounts in December 2010, based on recommendations by the Plan Team and the SSC.

Section 679.21(e)(3)(A) requires PSQ reserves to be subtracted from the total trawl PSC limits. The amount of the 2011 PSC limits assigned to the Amendment 80 and BSAI trawl limited access sectors are specified in Table 35 to part 679. The resulting allocation of PSC to CDQ PSQ, the Amendment 80 sector, and the BSAI trawl limited access sector are listed in Table 7a. Pursuant to § 679.21(e)(1)(iv) and § 679.91(d) through (f), crab and halibut trawl PSC assigned to the Amendment 80 sector is then further allocated to Amendment 80 cooperatives as PSC cooperative quota as presented in Table 7d.

Two Amendment 80 cooperatives have formed for the 2011 fishing year. Because all Amendment 80 vessels are part of a cooperative, no allocation to the Amendment 80 limited access sector is required. NMFS will post 2011 Amendment 80 cooperative allocations on the Alaska Region Web site at http://alaskafisheries.noaa.gov prior to the start of the fishing year on January 1, 2011, based on the harvest specifications effective on that date.

The 2012 Amendment 80 allocations between Amendment 80 cooperatives and the Amendment 80 limited access sector will not be known until November 1, 2011, which is the deadline for eligible participants to apply for participation in the Amendment 80 program. Amendment 80 applications for 2012 have not been submitted to NMFS, thereby preventing NMFS from calculating 2012 allocations. Thus, NMFS has not included 2012 allocations to the Amendment 80 cooperatives or Amendment 80 limited access sector in these proposed harvest specifications. NMFS will post 2012 Amendment 80 cooperatives and Amendment 80 limited access allocations on the Alaska Region Web site at http://alaskafisheries.noaa.gov when they become available in December 2012.

Section 679.21(e)(4)(i) authorizes the apportionment of the non-trawl halibut PSC limits into PSC bycatch allowances among six fishery categories. Table 7c lists the fishery bycatch allowances for the trawl and non-trawl fisheries.

Pursuant to section 3.6 of the FMP, the Council recommends, and NMFS agrees, that certain specified non-trawl fisheries be exempt from the halibut PSC limit. As in past years after consultation with the Council, NMFS exempts pot gear, jig gear, and the sablefish IFQ hook-and-line gear fishery categories from halibut bycatch restrictions because (1) the pot gear fisheries have low halibut bycatch mortality, (2) NMFS estimates halibut mortality for the jig gear fleet to be negligible because of the small size of the fishery and the selectivity of the gear, and (3) the sablefish and halibut IFQ fisheries have low halibut bycatch mortality because the IFQ program requires legal-size halibut to be retained by vessels using hook-and-line gear if a halibut IFQ permit holder or a hired master is aboard and is holding unused halibut IFQ (subpart D of 50 CFR part 679). In 2010, total groundfish catch for the pot gear fishery in the BSAI was approximately 20,940 mt, with an associated halibut bycatch mortality of about 43 mt.

The 2010 jig gear fishery harvested about 344 mt of groundfish. Most vessels in the jig gear fleet are less than 60 ft (18.3 m) LOA and thus are exempt from observer coverage requirements. As a result, observer data are not available on halibut bycatch in the jig gear fishery. However, as mentioned above, NMFS estimates a negligible amount of halibut bycatch mortality is assumed because of the selective nature of jig gear and the low mortality rate of halibut caught with jig gear and released.

Section 679.21(e)(5) authorizes NMFS, after consultation with the Council, to establish seasonal apportionments of PSC amounts for the BSAI trawl limited access and Amendment 80 limited access sectors in order to maximize the ability of the fleet to harvest the available groundfish TAC and to minimize bycatch. The factors considered are (1) seasonal distribution of prohibited species, (2) seasonal distribution of target groundfish species, (3) PSC bycatch needs on a seasonal basis relevant to prohibited species biomass, (4) expected variations in bycatch rates throughout the year, (5) expected start of fishing effort, and (6) economic effects of seasonal PSC apportionments on industry sectors.

The 2012 PSC limits for the Amendment 80 cooperatives and the Amendment 80 limited access sector will not be known until November 1, 2011, the deadline for participants to apply for participation in the Amendment 80. Because Amendment 80 applications for 2012 have not been submitted to NMFS, thereby preventing NMFS from calculating 2012 PSC limits, NMFS has not included 2012 PSC limits between Amendment 80 cooperatives and the Amendment 80 limited access sector in these proposed harvest specifications. NMFS will post 2012 Amendment 80 cooperative and Amendment 80 limited access allocations on the Alaska Region Web site at http://alaskafisheries.noaa.gov when they become available in December 2012. NMFS proposes the Council's recommendation of the seasonal PSC apportionments in Table 7c to maximize harvest among gear types, fisheries, and seasons while minimizing bycatch of PSC based on the above criteria.

Table 7a—Proposed 2011 and 2012 Apportionment of Prohibited Species Catch Allowances to Non-Trawl Gear, the CDQ Program, Amendment 80, and the BSAI Trawl Limited Access Sectors
PSC species | Total non-trawl PSC | Non-trawl PSC remaining after CDQ PSQ ¹ | Total trawl PSC | Trawl PSC remaining after CDQ PSQ ¹ | CDQ PSQ reserve ¹ | Amendment 80 sector: 2011 | Amendment 80 sector: 2012 | BSAI trawl limited access fishery
Halibut mortality (mt) BSAI | 900 | 832 | 3,675 | 3,349 | 393 | 2,375 | 2,325 | 875
Herring (mt) BSAI | n/a | n/a | 1,974 | n/a | n/a | n/a | n/a | n/a
Red king crab (animals) Zone 1¹ | n/a | n/a | 197,000 | 175,921 | 21,079 | 93,432 | 87,925 | 53,797
C. opilio (animals) COBLZ² | n/a | n/a | 8,460,480 | 7,555,209 | 905,271 | 3,945,330 | 3,713,385 | 2,428,244
C. bairdi crab (animals) Zone 1 ² | n/a | n/a | 830,000 | 741,190 | 88,810 | 331,608 | 312,115 | 348,285
C. bairdi crab (animals) Zone 2 | n/a | n/a | 2,520,000 | 2,250,360 | 269,640 | 565,966 | 532,660 | 1,053,394
¹ Section 679.21(e)(3)(i)(A)(2) allocates 326 mt of the trawl halibut mortality limit and § 679.21(e)(4)(i)(A) allocates 7.5 percent, or 67 mt, of the non-trawl halibut mortality limit as the PSQ reserve for use by the groundfish CDQ program. The PSQ reserve for crab species is 10.7 percent of each crab PSC limit.
² Refer to § 679.2 for definitions of zones.

TABLE 7b—Proposed 2011 and 2012 Herring and Red King Crab Savings Subarea Prohibited Species Catch Allowances for All Trawl Sectors
Fishery categories | Herring (mt) BSAI | Red king crab (animals) Zone 1
Yellowfin sole | 169 | n/a
Rock sole/flathead sole/other flatfish ¹ | 29 | n/a
Greenland turbot/arrowtooth/sablefish ² | 14 | n/a
Rockfish | 10 | n/a
Pacific cod | 29 | n/a
Midwater trawl pollock | 1,508 | n/a
Pollock/Atka mackerel/other species ³ ⁴ | 214 | n/a
Red king crab savings subarea non-pelagic trawl gear ⁵ | n/a | 49,250
Total trawl PSC | 1,974 | 197,000
¹ “Other flatfish” for purposes of PSC accounting and monitoring includes all flatfish species, except for halibut (a prohibited species), arrowtooth flounder, flathead sole, Greenland turbot, Kamchatka flounder, rock sole, and yellowfin sole.
² “Arrowtooth flounder” for purposes of PSC accounting and monitoring includes Kamchatka flounder.
³ Pollock other than pelagic trawl pollock, Atka mackerel, and “other species” fishery category.
⁴ “Other species” for purposes of PSC accounting and monitoring includes sculpins, sharks, skates, and octopus.
⁵ In October 2009 the Council recommended that the red king crab bycatch limit for non-pelagic trawl fisheries within the RKCSS be limited to 25 percent of the red king crab PSC allowance (see § 679.21(e)(3)(ii)(B)(2)).

Table 7c—Proposed 2011 and 2012 Prohibited Species Bycatch Allowances for the BSAI Trawl Limited Access Sector and Non-Trawl Fisheries
BSAI trawl limited access fisheries | Prohibited species and area ¹: Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 167 | 47,397 | 2,288,208 | 293,234 | 1,005,879
Rock sole/flathead sole/other flatfish ² | 0 | 0 | 0 | 0 | 0
Turbot/arrowtooth/sablefish ³ | 0 | 0 | 0 | 0 | 0
Rockfish April 15-December 31 | 5 | 0 | 3,890 | 0 | 848
Pacific cod | 453 | 6,000 | 97,247 | 50,816 | 42,424
Pollock/Atka mackerel/other species ⁴ | 250 | 400 | 38,899 | 4,235 | 4,242
Total BSAI trawl limited access PSC | 875 | 53,797 | 2,428,244 | 348,285 | 1,053,394

Non-trawl fisheries | Catcher processor | Catcher vessel
Pacific cod-Total | 760 | 15
January 1-June 10 | 380 | 10
June 10-August 15 | 190 | 3
August 15-December 31 | 190 | 2
Other non-trawl-Total | 58
May 1-December 31 | 58
Groundfish pot and jig | Exempt
Sablefish hook-and-line | Exempt
Total non-trawl PSC | 833
¹ Refer to § 679.2 for definitions of areas.
² “Other flatfish” for purposes of PSC accounting and monitoring all flatfish species, except for halibut (a prohibited species), arrowtooth flounder, flathead sole, Greenland turbot, Kamchatka flounder, rock sole, and yellowfin sole.
³ “Arrowtooth flounder” for purposes of PSC accounting and monitoring includes Kamchatka flounder.
⁴ “Other species” for purposes of PSC accounting and monitoring includes sculpins, sharks, skates, and octopus.

Table 7d—Proposed 2011 Prohibited Species Bycatch Allowance for the BSAI Amendment 80 Cooperatives
Cooperatives | Prohibited species and zones¹: Halibut mortality (mt) BSAI | Prohibited species and zones¹: Red king crab (animals) Zone 1 | Prohibited species and zones¹: C. opilio (animals) COBLZ | Prohibited species and zones¹: C. bairdi (animals): Zone 1 | Prohibited species and zones¹: C. bairdi (animals): Zone 2
Amendment 80—Alaska Seafood Cooperative | 1,643 | 63,637 | 2,547,203 | 233,442 | 390,500
Amendment 80—Alaska Groundfish Cooperative | 732 | 29,804 | 1,398,127 | 98,167 | 175,465
¹ Refer to § 679.2 for definitions of zones.

Halibut Discard Mortality Rates (DMRs)

To monitor halibut bycatch mortality allowances and apportionments, the Regional Administrator will use observed halibut bycatch rates, DMRs, and estimates of groundfish catch to project when a fishery's halibut bycatch mortality allowance or seasonal apportionment is reached. The DMRs are based on the best information available, including information contained in the annual SAFE report.

NMFS approves the halibut DMRs developed and recommended by the IPHC and the Council for the 2011 and 2012 BSAI groundfish fisheries for use in monitoring the 2011 and 2012 halibut bycatch allowances (see Tables 7a-7c). The IPHC developed these DMRs for the 2010 to 2012 BSAI fisheries using the 10-year mean DMRs for those fisheries. The IPHC will analyze observer data annually and recommend changes to the DMRs when a fishery DMR shows large variation from the mean. The document justifying these DMRs is available in Appendix 2 in the final 2009 SAFE report dated November 2009 (see ADDRESSES). Table 8 lists the 2011 and 2012 DMRs.

Table 8—Proposed 2011 and 2012 Assumed Pacific Halibut Discard Mortality Rates for the BSAI
Gear | Fishery | Halibut discard mortality rate (percent)
Non-CDQ hook-and-line | Greenland turbot | 11
| Other species | 10
| Pacific cod | 10
| Rockfish | 9
Non-CDQ trawl | Arrowtooth flounder | 76
| Atka mackerel | 76
| Flathead sole | 74
| Greenland turbot | 67
| Non-pelagic pollock | 73
| Pelagic pollock | 89
| Other flatfish | 72
| Other species | 71
| Pacific cod | 71
| Rockfish | 81
| Rock sole | 82
| Sablefish | 75
| Yellowfin sole | 81
Non-CDQ pot | Other species | 8
| Pacific cod | 8
CDQ trawl | Atka mackerel | 85
| Flathead sole | 88
| Non-pelagic pollock | 84
| Pelagic pollock | 85
| Rockfish | 90
| Rock sole | 90
| Yellowfin sole | 84
CDQ hook-and-line | Greenland turbot | 87
| Pacific cod | 85
CDQ pot | Pacific cod | 4
| Sablefish | 10

Central Gulf of Alaska Rockfish Pilot Program (Rockfish Program)

On June 6, 2005, the Council adopted the Rockfish Program to meet the requirements of Section 802 of the Consolidated Appropriations Act of 2004 (Pub. L. 108-199). The basis for the BSAI fishing prohibitions and the catcher vessel BSAI Pacific cod sideboard limits of the Rockfish Program are discussed in detail in the final rule for Amendment 68 to the Fisheries Management Plan for Groundfish of the GOA (71 FR 67210, November 20, 2006). Pursuant to § 679.82(d)(6)(i), the catcher vessel BSAI Pacific cod sideboard limit is 0.0 mt, and in the final 2011 and 2012 harvest specifications this would effectively close directed fishing for BSAI Pacific cod in July for catcher vessels under the Rockfish Program sideboard limitations. The Rockfish Program will expire in December 2011, although the Council has proposed a new program to supersede the existing Rockfish Program by 2012. NMFS is developing a proposed rule to implement the Council's revised program and anticipates that it will be published in the Federal Register for public review and comment early in 2011. The revised program, if approved by the Secretary, may affect the harvest specifications for 2012.

Listed AFA Catcher/Processor Sideboard Limits

Pursuant to § 679.64(a), the Regional Administrator is responsible for restricting the ability of listed AFA catcher/processors to engage in directed fishing for groundfish species other than pollock to protect participants in other groundfish fisheries from adverse effects resulting from the AFA and from fishery cooperatives in the directed pollock fishery. Table 9 lists the proposed 2011 and 2012 catcher/processor sideboard limits. The basis for these proposed sideboard limits is described in detail in the final rules implementing the major provisions of the AFA (67 FR 79692, December 30, 2002) and Amendment 80 (72 FR 52668, September 14, 2007).

All harvests of groundfish sideboard species by listed AFA catcher/processors, whether as targeted catch or incidental catch, will be deducted from the proposed sideboard limits in Table 9. However, groundfish sideboard species that are delivered to listed AFA catcher/processors by catcher vessels will not be deducted from the proposed 2011 and 2012 sideboard limits for the listed AFA catcher/processors.

Table 9—Proposed 2011 and 2012 BSAI Groundfish Sideboard Limits for Listed American Fisheries Act Catcher/Processors (C/Ps)
[Amounts are in metric tons]
Target species | Area | 1995-1997: Retained catch | 1995-1997: Total catch | 1995-1997: Ratio of retained catch of total catch | 2011 and 2012 ITAC available to all trawl C/Ps ¹ | 2011 and 2012 AFA C/P sideboard limit
Sablefish trawl | BS | 8 | 497 | 0.016 | 1,063 | 17
| AI | 0 | 145 | 0 | 434 | 0
Atka mackerel | Central AI |
| A season ² | n/a | n/a | 0.115 | 11,609 | 1,335
| HLA limit | n/a | n/a | n/a | 6,965 | 801
| B season ² | n/a | n/a | 0.115 | 11,609 | 1,335
| HLA limit ³ | n/a | n/a | n/a | 6,965 | 801
| Western AI
| A season ² | n/a | n/a | 0.2 | 8,081 | 1,616
| HLA limit | n/a | n/a | n/a | 4,849 | 970
| B season ² | n/a | n/a | 0.2 | 8,081 | 1,616
| HLA limit ³ | n/a | n/a | n/a | 4,849 | 970
Yellowfin sole ⁴ | BSAI | 100,192 | 435,788 | 0.23 | 190,209 | 43,748
Rock sole | BSAI | 6,317 | 169,362 | 0.037 | 80,370 | 2,974
Greenland turbot | BS | 121 | 17,305 | 0.007 | 3,145 | 22
| AI | 23 | 4,987 | 0.005 | 1,420 | 7
Arrowtooth flounder ⁵ | BSAI | 76 | 33,987 | 0.002 | 51,000 | 102
Kamchatka flounder ⁵ | BSAI | 76 | 33,987 | 0.002 | 15,045 | 30
Flathead sole | BSAI | 1,925 | 52,755 | 0.036 | 53,580 | 1,929
Alaska plaice | BSAI | 14 | 9,438 | 0.001 | 34,000 | 34
Other flatfish | BSAI | 3,058 | 52,298 | 0.058 | 14,705 | 853
Pacific ocean perch | BS | 12 | 4,879 | 0.002 | 3,222 | 6
| Eastern AI | 125 | 6,179 | 0.02 | 3,733 | 75
| Central AI | 3 | 5,698 | 0.001 | 3,777 | 4
| Western AI | 54 | 13,598 | 0.004 | 5,787 | 23
Northern rockfish | BSAI | 91 | 13,040 | 0.007 | 6,197 | 43
Shortraker rockfish | BSAI | 50 | 2,811 | 0.018 | 329 | 6
Rougheye rockfish ⁶ | BS | 50 | 2,811 | 0.018 | 416 | 7
| AI | 50 | 2,811 | 0.018 | 36 | 1
Other rockfish | BS | 18 | 621 | 0.029 | 412 | 12
| AI | 22 | 806 | 0.027 | 472 | 13
Squid | BSAI | 73 | 3,328 | 0.022 | 1,675 | 37
Sharks ⁷ | BSAI | 553 | 68,672 | 0.008 | 382 | 3
Skates ⁷ | BSAI | 553 | 68,672 | 0.008 | 25,500 | 204
Sculpins ⁷ | BSAI | 553 | 68,672 | 0.008 | 25,530 | 204
Octopus ⁷ | BSAI | 553 | 68,672 | 0.008 | 198 | 2
¹ Aleutians Islands Pacific ocean perch, and BSAI Atka mackerel, flathead sole, rock sole, and yellowfin sole are multiplied by the remainder of the TAC of that species after the subtraction of the CDQ reserve under § 679.20(b)(1)(ii)(C).
² The seasonal apportionment of Atka mackerel in the open access fishery is 50 percent in the A season and 50 percent in the B season. Listed AFA catcher/processors are limited to harvesting no more than zero in the Eastern Aleutian District and Bering Sea subarea, 20 percent of the annual ITAC specified for the Western Aleutian District, and 11.5 percent of the annual ITAC specified for the Central Aleutian District.
³ Harvest Limit Area (HLA) limit refers to the amount of each seasonal allowance that is available for fishing inside the HLA (see § 679.2). In 2010 and 2011, 60 percent of each seasonal allowance is available for fishing inside the HLA in the Western and Central Aleutian Districts. These HLA limits are subject to change under ongoing Section 7 Consultation addressing impacts of the groundfish fisheries on endangered Steller sea lions.
⁴ Section 679.64(a)(1)(v) exempts AFA catcher/processors from a yellowfin sole sideboard limit because the 2011 and 2012 aggregate ITAC of yellowfin sole assigned to the Amendment 80 sector and BSAI trawl limited access sector (190,209 mt) is greater than 125,000 mt.
⁵ Prior to 2011, Kamchatka flounder was managed as a component of the arrowtooth flounder complex.
⁶ Prior to 2011, rougheye rockfish was managed as a single BSAI management area.
⁷ Prior to 2011, sharks, skates, sculpins, and octopus were managed as the “other species” complex.

Section 679.64(a)(2) and Tables 40 and 41 to part 679 establish a formula for calculating PSC sideboard limits for listed AFA catcher/processors. The basis for these sideboard limits is described in detail in the final rules implementing the major provisions of the AFA (67 FR 79692, December 30, 2002) and Amendment 80 (72 FR 52668, September 14, 2007).

PSC species listed in Table 10 that are caught by listed AFA catcher/processors participating in any groundfish fishery other than pollock will accrue against the proposed 2011 and 2012 PSC sideboard limits for the listed AFA catcher/processors. Section 679.21(e)(3)(v) authorizes NMFS to close directed fishing for groundfish other than pollock for listed AFA catcher/processors once a proposed 2011 or 2012 PSC sideboard limit listed in Table 10 is reached.

Crab or halibut PSC caught by listed AFA catcher/processors while fishing for pollock will accrue against the bycatch allowances annually specified for either the midwater pollock or the pollock/Atka mackerel/“other species” fishery categories according to regulations at § 679.21(e)(3)(iv).

Table 10—Proposed 2011 and 2012 BSAI Prohibited Species Sideboard Limits for American Fisheries Act Listed Catcher/Processors
PSC species and area | Ratio of PSC to total PSC | Proposed 2011 and 2012 PSC available to trawl vessels after subtraction of PSQ ¹ | Proposed 2011 and 2012 C/P sideboard limit ¹
Halibut mortality BSAI | n/a | n/a | 286
Red king crab Zone 1 ² | 0.007 | 175,921 | 1,231
C. opilio (COBLZ) ² | 0.153 | 7,555,209 | 1,155,947
C. bairdi | n/a | n/a | n/a
Zone 1 ² | 0.14 | 875,140 | 122,520
Zone 2 ² | 0.05 | 2,652,210 | 132,611
¹ Halibut amounts are in metric tons of halibut mortality. Crab amounts are in numbers of animals.
² Refer to § 679.2 for definitions of areas.

AFA Catcher Vessel Sideboard Limits

Pursuant to § 679.64(b), the Regional Administrator is responsible for restricting the ability of AFA catcher vessels to engage in directed fishing for groundfish species other than pollock to protect participants in other groundfish fisheries from adverse effects resulting from the AFA and from fishery cooperatives in the directed pollock fishery. Section 679.64(b) establishes formulas for setting AFA catcher vessel groundfish and PSC sideboard limits for the BSAI. The basis for these sideboard limits is described in detail in the final rules implementing the major provisions of the AFA (67 FR 79692, December 30, 2002) and Amendment 80 (72 FR 52668, September 14, 2007). Tables 11 and 12 list the proposed 2011 and 2012 AFA catcher vessel sideboard limits.

All catch of groundfish sideboard species made by non-exempt AFA catcher vessels, whether as targeted catch or as incidental catch, will be deducted from the proposed 2011 and 2012 sideboard limits listed in Table 11.

Table 11—Proposed 2011 and 2012 BSAI Groundfish Sideboard Limits for American Fisheries Act Catcher Vessels (CVs)
[Amounts are in metric tons]
Species | Fishery by area/gear/season | Ratio of 1995-1997 AFA CV catch to 1995-1997 TAC | 2011-2012 initial TAC¹ | 2011 and 2012 AFA catcher vessel sideboard limits
Pacific cod | BSAI
| Jig gear | 0 | 2,413 | 0
| Hook-and-line CV |  |  |
| Jan 1-Jun 10 | 0.0006 | 188 | 0
| Jun 10-Dec 31 | 0.0006 | 181 | 0
| Pot gear CV |  |  |
| Jan 1-Jun 10 | 0.0006 | 7,906 | 5
| Sept 1-Dec 31 | 0.0006 | 7,596 | 5
| CV < 60 ft LOA using hook-and-line or pot gear | 0.0006 | 3,691 | 2
| Trawl gear CV |  |  |
| Jan 20-Apr 1 | 0.8609 | 30,315 | 26,098
| Apr 1-Jun 10 | 0.8609 | 4,506 | 3,879
| Jun 10-Nov 1 | 0.8609 | 6,145 | 5,290
Sablefish | BS trawl gear | 0.0906 | 1,063 | 96
| AI trawl gear | 0.0645 | 434 | 28
Atka mackerel ² | Eastern AI/BS
| Jan 1-Apr 15 | 0.0032 | 9,332 | 30
| Sept 1-Nov 1 | 0.0032 | 9,332 | 30
| Central AI
| Jan-Apr 15 | 0.0001 | 11,609 | 1
| HLA limit | 0.0001 | 6,965 | 1
| Sept 1-Nov 1 | 0.0001 | 11,609 | 1
| HLA limit | 0.0001 | 6,965 | 1
| Western AI
| Jan-Apr 15 | 0 | 8,081 | 0
| HLA limit | n/a | 4,849 | 0
| Sept 1-Nov 1 | 0 | 8,081 | 0
| HLA limit | n/a | 4,849 | 0
Yellowfin sole ³ | BSAI | 0.0647 | 190,209 | n/a
Rock sole | BSAI | 0.0341 | 80,370 | 2,741
Greenland turbot | BS | 0.0645 | 3,145 | 203
| AI | 0.0205 | 1,420 | 29
Arrowtooth flounder ³ | BSAI | 0.069 | 51,000 | 3,519
Kamchatka flounder ⁴ | BSAI | 0.069 | 15,044 | 1,038
Flathead sole | BS trawl gear | 0.0505 | 53,580 | 2,706
Alaska plaice | BSAI | 0.0441 | 34,000 | 1,499
Other flatfish | BSAI | 0.0441 | 14,705 | 648
Pacific ocean perch | BS | 0.1 | 3,222 | 322
| Eastern AI | 0.0077 | 3,733 | 29
| Central AI | 0.0025 | 3,777 | 9
| Western AI | 0 | 5,787 | 0
Northern rockfish | BSAI | 0.0084 | 6,197 | 52
Shortraker rockfish | BSAI | 0.0037 | 329 | 1
Rougheye rockfish ⁵ | BS | 0.0037 | 36 | 0
| AI | 0.0037 | 416 | 2
Other rockfish | BS | 0.0048 | 412 | 2
| AI | 0.0095 | 472 | 4
Squid | BSAI | 0.3827 | 1,675 | 641
Sharks ⁶ | BSAI | 0.0541 | 382 | 21
Skates ⁶ | BSAI | 0.0541 | 25,500 | 1,380
Sculpins ⁶ | BSAI | 0.0541 | 25,530 | 1,381
Octopus ⁶ | BSAI | 0.0541 | 198 | 11
¹ Aleutian Islands Pacific ocean perch, Atka mackerel, flathead sole, rock sole, and yellowfin sole are multiplied by the remainder of the TAC of that species after the subtraction of the CDQ reserve under § 679.20(b)(1)(ii)(C).
² Harvest specifications for Atka mackerel in the Aleutian Islands subarea are subject to change under ongoing Section 7 Consultation addressing impacts of the groundfish fisheries on endangered Steller sea lions.
³ Section 679.64(b)(6) exempts AFA catcher vessels from a yellowfin sole sideboard limit because the 2011 and 2012 aggregate ITAC of yellowfin sole assigned to the Amendment 80 sector and BSAI trawl limited access sector is greater than 125,000 mt.
⁴ Before 2011, arrowtooth flounder and Kamchatka flounder were managed as a single complex.
⁵ Before 2011, rougheye rockfish was managed in a single BSAI area.
⁶ Before 2011, sharks, skates, sculpins, and octopus were managed in the “other species” complex.

Halibut and crab PSC limits listed in Table 12 that are caught by AFA catcher vessels participating in any groundfish fishery other than pollock will accrue against the proposed 2011 and 2012 PSC sideboard limits for the AFA catcher vessels. Sections 679.21(d)(8) and 679.21(e)(3)(v) authorize NMFS to close directed fishing for groundfish other than pollock for AFA catcher vessels once a proposed 2011 and 2012 PSC sideboard limit listed in Table 12 is reached. The PSC by AFA catcher vessels while fishing for pollock in the Bering Sea subarea will accrue against the bycatch allowances annually specified for either the midwater pollock or the pollock/Atka mackerel/“other species” fishery categories under regulations at § 679.21(e)(3)(iv).

Table 12—Proposed 2011 and 2012 American Fisheries Act Catcher Vessel Prohibited Species Catch Sideboard Limits for the BSAI ¹
PSC species | Target fishery category ² | AFA catcher vessel PSC sideboard limit ratio | Proposed 2011 and 2012 PSC limit after subtraction of PSQ reserves ² | Proposed 2011 and 2012 AFA catcher vessel PSC sideboard limit ²
Halibut | Pacific cod trawl | n/a | n/a | 887
| Pacific cod hook-and-line or pot | n/a | n/a | 2
| Yellowfin sole total | n/a | n/a | 101
| Rock sole/flathead sole/other flatfish ³ | n/a | n/a | 228
| Greenland turbot/arrowtooth/sablefish | n/a | n/a | 0
| Rockfish | n/a | n/a | 2
| Pollock/Atka mackerel/other species ⁴ | n/a | n/a | 5
Red king crab Zone 1 | n/a | 0.299 | 175,921 | 52,600
C. opilio COBLZ ⁵ | n/a | 0.168 | 7,555,209 | 1,269,275
C. bairdi Zone 1⁵ | n/a | 0.33 | 875,140 | 288,796
C. bairdi Zone 2 ⁵ | n/a | 0.186 | 2,652,210 | 493,311
¹ Halibut amounts are in metric tons of halibut mortality. Crab amounts are in numbers of animals.
² Target fishery categories are defined in regulation at § 679.21(e)(3)(iv).
³ “Other flatfish” for purposes of PSC accounting and monitoring includes all flatfish species, except for halibut (a prohibited species), arrowtooth flounder, flathead sole, Greenland turbot, Kamchatka flounder, rock sole, and yellowfin sole.
⁴ “Other species” for purposes of PSC accounting and monitoring includes sculpins, sharks, skates, and octopus.
⁵ Refer to § 679.2 for definitions of areas.

Classification

NMFS has determined that the proposed harvest specifications are consistent with the FMP and preliminarily determined that the proposed harvest specifications are consistent with the Magnuson-Stevens Act and other applicable laws.

This action is authorized under 50 CFR 679.20 and is exempt from review under Executive Order 12866 because it contains no implementing regulations.

NMFS prepared an EIS for this action and made it available to the public on January 12, 2007 (72 FR 1512). On February 13, 2007, NMFS issued the Record of Decision for the EIS. Copies of the EIS and Record of Decision for this action are available from NMFS (see ADDRESSES). The EIS analyzes the environmental consequences of the proposed groundfish harvest specifications and alternative harvest strategies on resources in the action area. The EIS found no significant negative environmental consequences from the proposed action or its alternatives.

NMFS also prepared an Initial Regulatory Flexibility Analysis (IRFA) as required by section 603 of the Regulatory Flexibility Act. The IRFA evaluates the impacts on small entities of alternative harvest strategies for the groundfish fisheries in the exclusive economic zone off Alaska. The IRFA analyzed the methodology for establishing the relevant TACs. As set forth in the methodology, TACs are set to a level that fall within the range of ABCs recommended by the Science and Statistical Committee (SSC); the sum of the TACs must achieve optimum yield specified in the FMP. While the specific numbers that the methodology may produce vary from year to year, the methodology itself remains constant. Accordingly, NMFS is using the IRFA prepared for the EIS in association with this action. Pursuant to sections 3.2.3 and 3.2.4 of the FMP, the established methodology produces ABCs and TACs within specified ranges and the numbers in this proposed rule's preferred alternative are within those ranges. NMFS published notice of the availability of the IRFA and its summary in the classification section of the proposed harvest specifications for the groundfish fisheries in the BSAI in the Federal Register on December 15, 2006 (71 FR 75460). A description of the action, why it is being considered, and the legal basis for this action are contained in the preamble above. This IRFA meets the statutory requirements of the Regulatory Flexibility Act of 1980, as amended by the Small Business Regulatory Enforcement Fairness Act of 1996 (5 U.S.C. 601-612). A copy of this analysis is available from NMFS (see ADDRESSES). A summary of the IRFA follows.

The action under consideration is a harvest strategy to govern the catch of groundfish in the BSAI. The preferred alternative is the existing harvest strategy in which TACs fall within the range of ABCs recommended by the SSC. This action is taken in accordance with the FMP prepared by the Council pursuant to the Magnuson-Stevens Act.

The directly regulated small entities include approximately 204 small catcher vessels, fewer than 11 small catcher/processors, and six CDQ groups. The entities directly regulated by this action are those that harvest groundfish in the exclusive economic zone of the BSAI and in parallel fisheries within State waters. These include entities operating catcher vessels and catcher/processor vessels within the action area, and entities receiving direct allocations of groundfish. Catcher vessels and catcher/processors were considered to be small entities if their annual gross receipts from all economic activities, including the revenue of their affiliated operations, totaled $4 million per year or less. Data from 2008 were the most recent available to determine the number of small entities.

Estimates of first wholesale gross revenues for the BSAI non-CDQ and CDQ sectors were used as indices of the potential impacts of the alternative harvest strategies on small entities. Revenues were projected to decline from 2006 levels in 2007 and 2008 under the preferred alternative due to declines in ABCs for economically key groundfish species.

The preferred alternative (Alternative 2) was compared to four other alternatives. These included Alternative 1, which would have set TACs to generate fishing rates equal to the maximum permissible ABC (if the full TAC were harvested), unless the sum of TACs exceeded the BSAI optimum yield, in which case TACs would have been limited to the optimum yield. Alternative 3 would have set TACs to produce fishing rates equal to the most recent five-year average fishing rates. Alternative 4 would have set TACs equal to the lower limit of the BSAI optimum yield range. Alternative 5, the “no action” alternative, would have set TACs equal to zero.

Alternatives 3, 4, and 5 produced smaller first wholesale revenue indices for both non-CDQ and CDQ sectors than Alternative 2. Alternative 1 revenues were the same as Alternative 2 revenues in the BSAI for both sectors. Moreover, higher Alternative 1 TACs are associated with maximum permissible ABCs, which may be higher than Alternative 2 TACs, while Alternative 2 TACs are associated with the ABCs that have been recommended to the Council by the Plan Team and the SSC, and more fully consider other potential biological issues. For these reasons, Alternative 2 is the preferred alternative.

NMFS also prepared a supplemental IRFA (SIRFA) to more specifically evaluate the proposed specification of separate OFLs and TACs for sharks, octopus, skates, and sculpins in the BSAI, consistent with the previously selected harvest strategy, the Tier system in the FMP, Amendment 95 and 96 to the FMP, the Magnuson-Stevens Act, and other applicable law (See ADDRESSES). Amendment 95 and 96 to the FMP were approved by NMFS on September 22, 2010.

NMFS does not anticipate that the specification of TACs for sculpins or skates will have any additional economic impacts on small entities beyond those impacts analyzed in the existing harvest specification IRFA because the proposed OFLs and ABCs are relatively large compared to recent historical catches.

In contrast, the proposed OFLs and TACs for sharks and octopus could potentially result in some vessels choosing to shift the timing or location of their fishing activity in an effort to avoid high rates of incidental catch in an effort to avert the imposition of inseason management measures by NMFS to avoid overfishing. The impact of efforts undertaken by the fleet to avoid reaching the TAC and the potential closures that may follow are difficult to predict and would depend on the timing and location of incidental catches and the specific steps taken by the fleet to reduce the rate of incidental catch. Generally, however, the impact on these operations may be some combination of increased costs and/or decreased gross revenues as further described below.

The 2009 Economic SAFE (see ADDRESSES) identifies 215 small groundfish entities operating in the BSAI in 2008, with estimated average 2008 gross revenues from all sources of about $1.53 million. Most of these (204 of them) are catcher vessels, with estimated average gross revenues of $1.49 million. About half of the catcher-vessels (103) are trawlers, with average gross revenues of about $1.71 million, 46 are hook-and-line vessels, with average gross revenues of about $580,000, and 62 are pot vessels, with average gross revenues of about $1.70 million. The SAFE estimates that there were 11 small catcher-processors, a majority (7) of which were hook-and-line vessels, with average gross revenues of about $2.65 million. The SAFE may overstate the number of small entities, because it considers individual vessel gross revenues, but does not capture affiliations among vessels. All of these small entities would be directly regulated by the proposed action. As described below, however, certain small entities may be more likely than others to be adversely affected by the proposed action as a result of potential impacts associated with the incidental catch of sharks, octopus or skates in other target fisheries.

Sharks are incidentally caught in two fisheries primarily. Over half of the incidental catch (58 percent) occurs in the pelagic trawl fishery for pollock and another 28 percent occurs in the hook-and-line fishery for Pacific cod. Smaller amounts of sharks are taken in other trawl and non trawl gear fisheries. Any adverse impacts would be incurred by both large and small fishing entities in the BSAI. The key fleets impacted by the shark breakout are the pollock trawlers and the hook-and-line vessels fishing for Pacific cod. All of the pollock trawlers are believed to be large entities, either because the vessels themselves gross more than $4 million or because they are members of American Fisheries Act cooperatives, the affiliated members of which, when taken in aggregate, gross far in excess of the threshold. The BSAI hook-and-line vessels targeting Pacific cod are predominately large vessels. Two are believed to be small.

Most of the octopus catch (59 percent) occurs in the pot gear fishery for Pacific cod. The pot gear fishery targeting octopus, and the hook-and-line fishery for Pacific cod each took another 11 percent. Non-pelagic trawlers targeting Pacific cod took another nine percent. Most of the remainder of the catch was made by non-pelagic trawlers targeting one of several species. Although directed fishing for octopus is closed in Federal waters, directed fishing has occurred in State waters in the BSAI. Any adverse impacts would be incurred by both large and small fishing entities in the BSAI. The SAFE estimates of the numbers of small entities operating in the BSAI in 2008 were described in the section on BSAI sharks, above. Pot vessels targeting Pacific cod take a large proportion of the octopus catch. Most of the vessels in this fleet segment (which has an estimated 63 vessels) are small. Restrictions on this fleet may adversely impact 55 small vessels, with average gross revenues of about $1.78 million. The hook-and-line fishery for Pacific cod, which was discussed under sharks, takes a smaller proportion of octopus; two entities may be small. The pot fishery targeting octopus may include any of the 62 small pot vessels identified from the SAFE report. The non-pelagic trawl fishery for Pacific cod has 13 small entities with average gross revenues of about $810,000.

NMFS considered several alternatives to the proposed action of specifying separate OFLs and TACS for BSAI sculpins, sharks, octopus and skate species complexes. However, each of these alternatives has been eliminated from further consideration because it either does not accomplish the stated objectives of, or is in conflict with the requirements of, applicable statutes. Specifically, any alternative that did not create seperate OFLs and TACs for sculpins, sharks, octopus, and skates is inconsistent with the Magnuson-Stevens Act.

The proposed action is intended to fulfill the agency's mandate to establish catch limits that are based on the best available scientific information, and which will achieve optimum yield while preventing overfishing. The proposed action is the alternative that is both consistent with the agency's obligations under the Magnuson-Stevens Fishery Conservation and Management Act and the FMP and minimizes the likelihood that the specification of TACs and OFLs for the sculpins, sharks, octopus and skate species complexes will adversely affect small entities.

NMFS considered dividing the TACs for each of the species complexes among different regulatory areas in the BSAI. Any such further division of the TACs would not change the total TACs for each species complex in the BSAI as a whole. However, the incidental catch of fishing vessels that operate within each of the regulatory areas would be counted against a reduced TAC and OFL, which would increase the likelihood that the TAC or OFL would be reached and that one or more area closures may be triggered.

NMFS considered excusing small entities from compliance with the TACs for each of the species complexes evaluated in this SIRFA. However, the Magnuson-Stevens Act requires NMFS to implement conservation and management measures that prevent overfishing. Authorizing unlimited incidental catch of these species complexes by small entities would present an unacceptable risk of overfishing, and would not be consistent with the agency's obligations under Magnuson-Stevens Act, nor with the requirements of the Council's FMP.

In order to minimize the economic impacts of the proposed action, NMFS considered allocating relatively large portions of the TACs for each of the species complexes to potentially affected small entities. However, any such allocation, which would be motivated solely by economic considerations under the RFA, would not be consistent with National Standard 5, which states that “no [conservation and management measure] shall have economic allocation as its sole purpose.” 16 U.S.C. 1851(a)(5).

Finally, NMFS considered establishing a single group TAC for all four of the species complexes in the BSAI, which would substantially reduce the likelihood that incidental catch would reach or exceed the TAC or OFL and result in area closures of target fisheries. However, the establishment of a stock complex comprised of species with such disparate life histories would not be consistent with the statutory requirement to establish catch limits that prevent overfishing for stocks in the fishery, nor with the Council's intent in enacting Amendments 95 and 96.

This action does not modify recordkeeping or reporting requirements, or duplicate, overlap, or conflict with any Federal rules.

Adverse impacts on marine mammals resulting from fishing activities conducted under these harvest specifications are discussed in the Final EIS (see ADDRESSES).

Authority: 16 U.S.C. 773 et seq., 1801 et seq., 3631 et seq.; Public Law 108-447.

Dated: December 2, 2010.
Eric C. Schwaab,
Assistant Administrator for Fisheries, National Marine Fisheries Service.

[FR Doc. 2010-30692 Filed 12-7-10; 8:45 am]

BILLING CODE 3510-22-P